DEPARTMENT OF COMMERCE

Office of the Secretary

13 CFR Ch. III

15 CFR Subtitle A; Subtitle B, Chs. I, II, III, VII, VIII, IX, and XI

19 CFR Ch. III

37 CFR Chs. I, IV, and V

48 CFR Ch. 13

50 CFR Chs. II, III, IV, and VI

Fall 2012 Semiannual Agenda of Regulations

AGENCY: Office of the Secretary, Commerce.

ACTION: Semiannual regulatory agenda.

SUMMARY: In compliance with Executive Order 12866, entitled “Regulatory Planning and Review,” and the Regulatory Flexibility Act, as amended, the Department of Commerce (Commerce), in the spring and fall of each year, publishes in the Federal Register an agenda of regulations under development or review over the next 12 months. Rulemaking actions are grouped according to prerulemaking, proposed rules, final rules, long-term actions, and rulemaking actions completed since the spring 2012 agenda. The purpose of the agenda is to provide information to the public on regulations that are currently under review, being proposed, or issued by Commerce. The agenda is intended to facilitate comments and views by interested members of the public.

Commerce's fall 2012 regulatory agenda includes regulatory activities that are expected to be conducted during the period October 1, 2012 through September 30, 2013.

FOR FURTHER INFORMATION CONTACT:

Specific: For additional information about specific regulatory actions listed in the agenda, contact the individual identified as the contact person.

General: Comments or inquiries of a general nature about the agenda should be directed to Asha Mathew, Chief Counsel for Regulation, Office of the Assistant General Counsel for Legislation and Regulation, U.S. Department of Commerce, Washington, DC 20230, telephone: 202-482-3151.

SUPPLEMENTARY INFORMATION: Commerce hereby publishes its fall 2012 Unified Agenda of Federal Regulatory and Deregulatory Actions pursuant to Executive Order 12866 and the Regulatory Flexibility Act, 5 U.S.C. 601 et seq. Executive Order 12866 requires agencies to publish an agenda of those regulations that are under consideration pursuant to this order. By memorandum of June 13, 2012, the Office of Management and Budget issued guidelines and procedures for the preparation and publication of the fall 2012 Unified Agenda. The Regulatory Flexibility Act requires agencies to publish, in the spring and fall of each year, a regulatory flexibility agenda that contains a brief description of the subject of any rule likely to have a significant economic impact on a substantial number of small entities, and a list that identifies those entries that have been selected for periodic review under section 610 of the Regulatory Flexibility Act.

In this edition of Commerce's regulatory agenda, a list of the most important significant regulatory actions and a Statement of Regulatory Priorities are included in the Regulatory Plan, which appears in both the online Unified Agenda and in part II of the issue of the Federal Register that includes the Unified Agenda.

In addition, beginning with the fall 2007 edition, the Internet became the basic means for disseminating the Unified Agenda. The complete Unified Agenda is available online at www.reginfo.gov, in a format that offers users a greatly enhanced ability to obtain information from the Agenda database.

Because publication in the Federal Register is mandated for the regulatory flexibility agendas required by the Regulatory Flexibility Act, Commerce's printed agenda entries include only:

(1) Rules that are in the Agency's regulatory flexibility agenda, in accordance with the Regulatory Flexibility Act, because they are likely to have a significant economic impact on a substantial number of small entities; and

(2) Rules that the Agency has identified for periodic review under section 610 of the Regulatory Flexibility Act.

Printing of these entries is limited to fields that contain information required by the Regulatory Flexibility Act's Agenda requirements. Additional information on these entries is available in the Unified Agenda published on the Internet. In addition, for fall editions of the Agenda, Commerce's entire Regulatory Plan will continue to be printed in the Federal Register.

Within Commerce, the Office of the Secretary and various operating units may issue regulations. These operating units, the National Oceanic and Atmospheric Administration (NOAA), the Bureau of Industry and Security, and the Patent and Trademark Office, issue the greatest share of Commerce's regulations.

A large number of regulatory actions reported in the Agenda deal with fishery management programs of NOAA's National Marine Fisheries Service (NMFS). To avoid repetition of programs and definitions, as well as to provide some understanding of the technical and institutional elements of NMFS' programs, an “Explanation of Information Contained in NMFS Regulatory Entries” is provided below.

Explanation of Information Contained in NMFS Regulatory Entries

The Magnuson-Stevens Fishery Conservation and Management Act (16 U.S.C. 1801 et seq.) (the Act) governs the management of fisheries within the Exclusive Economic Zone of the United States (EEZ). The EEZ refers to those waters from the outer edge of the State boundaries, generally 3 nautical miles, to a distance of 200 nautical miles. Fishery Management Plans (FMPs) are to be prepared for fisheries that require conservation and management measures. Regulations implementing these FMPs regulate domestic fishing and foreign fishing where permitted. Foreign fishing may be conducted in a fishery in which there is no FMP only if a preliminary fishery management plan has been issued to govern that foreign fishing. Under the Act, eight Regional Fishery Management Councils (Councils) prepare FMPs or amendments to FMPs for fisheries within their respective areas. In the development of such plans or amendments and their implementing regulations, the Councils are required by law to conduct public hearings on the draft plans and to consider the use of alternative means of regulating.

The Council process for developing FMPs and amendments makes it difficult for NMFS to determine the significance and timing of some regulatory actions under consideration by the Councils at the time the semiannual regulatory agenda is published.

Commerce's fall 2012 regulatory agenda follows.

Cameron F. Kerry,
General Counsel.

International Trade Administration—Final Rule Stage
Sequence No. | Title | Regulation Identifier No.
162 | Modification of Regulations Regarding the Definition of Factual Information and Time Limits for Submission of Factual Information | 0625-AA91

International Trade Administration—Long-Term Actions
Sequence No. | Title | Regulation Identifier No.
163 | Commercial Availability of Fabric and Yarn | 0625-AA59

National Oceanic and Atmospheric Administration—Prerule Stage
Sequence No. | Title | Regulation Identifier No.
164 | Generic Amendment 4 for to Fishery Management Plans in the Gulf of Mexico: Fixed Petroleum Platforms and Artificial Reefs as Essential Fish Habitat | 0648-BC47
165 | Amendment 28 to the Fishery Management Plan for the Snapper Grouper Fishery of the South Atlantic Region | 0648-BC63

National Oceanic and Atmospheric Administration—Proposed Rule Stage
Sequence No. | Title | Regulation Identifier No.
166 | Fishery Management Plan for Regulating Offshore Marine Aquaculture in the Gulf of Mexico | 0648-AS65
167 | American Lobster Fishery; Fishing Effort Control Measures to Complement Interstate Lobster Management Recommendations by the Atlantic States Marine Fisheries Commission | 0648-AT31
168 | Amendment 3 to the Spiny Dogfish Fishery Management Plan | 0648-AY12
169 | Amendment 14 to the Atlantic Mackerel, Squid, and Butterfish Fishery Management Plan | 0648-AY26
170 | Fisheries in the Western Pacific; Pelagic Fisheries; Purse Seine Fishing with Fish Aggregation Devices | 0648-AY36
171 | Amendment 5 to the Atlantic Herring Fishery Management Plan | 0648-AY47
172 | Amendment to Recover the Administrative Costs of Processing Permit Applications | 0648-AY81
173 | Amendment 22 to the Fishery Management Plan for the Snapper Grouper Fishery of the South Atlantic Region | 0648-BA53
174 | Amendment 21 to the Snapper-Grouper Fishery Management Plan of the South Atlantic Region | 0648-BA59
175 | Amendment 6 to the Golden Crab Fishery Management Plan of the South Atlantic | 0648-BA60
176 | Implement the 2010 Shark Conservation Act Provisions and Other Regulations in the Atlantic Smoothhound Shark Fishery | 0648-BB02
177 | Fisheries off West Coast States; Pacific Coast Groundfish Fishery; Trawl Rationalization Program; Cost Recovery Program | 0648-BB17
178 | Amendment 18B to the Snapper Grouper Fishery Management Plan of the South Atlantic Region | 0648-BB58
179 | Amendment 89 to the GOA FMP Area Closures for Chionoecetes Bairdi Crab Protection in Gulf of Alaska Groundfish Fisheries | 0648-BB76
180 | Amendment to the Vessel Ownership Requirements of the Individual Fishing Quota (IFQ) Program for Fixed-Gear Pacific halibut and Sablefish Fisheries in and off of Alaska | 0648-BB78
181 | Pacific Coast Groundfish Trawl Rationalization Program Reconsideration of Allocation of Whiting (Raw 2) | 0648-BC01
182 | Framework Adjustment 5 to the Atlantic Mackerel, Squid, and Butterfish Fishery Management Plan | 0648-BC08
183 | Generic Amendment to Several Fishery Management Plans in the Gulf of Mexico and South Atlantic Regions to Modify Federally-Permitted Seafood Dealer Reporting Requirements | 0648-BC12
184 | Amendment 4 to the Fishery Management Plan for the Reef Fish Fishery of Puerto Rico and the U.S. Virgin Islands: Parrotfish Size Limits | 0648-BC20
185 | Comprehensive Ecosystem Based Amendment 3 | 0648-BC22
186 | Amendment 42 to the Fishery Management Plan for Bering Sea/Aleutian Islands King and Tanner Crabs | 0648-BC25
187 | Framework Adjustment to the Northeast Multispecies Fishery Management Plan for 2013-2014 Annual Catch Limits (ACLs) and Other Management Measures | 0648-BC27
188 | Amendment 43 to the FMP for BSAI King and Tanner Crabs and Amendment 103 to the FMP for Groundfish of the BSAI | 0648-BC34
189 | Amendment 38 to the Fishery Management Plan for Reef Fish Resources in the Gulf of Mexico | 0648-BC37
190 | Amendment 4 to the U.S. Caribbean Coral FMP: Seagrass Management | 0648-BC38
191 | Amendment 95 to the Fishery Management Plan for Groundfish of the Gulf of Alaska | 0648-BC39
192 | 2013 Atlantic Mackerel, Squid, and Butterfish Fishery Specifications and Management Measures | 0648-BC40
193 | Management Measures for Pacific Bluefin Tuna in the Eastern Pacific Ocean | 0648-BC44
194 | Proposed Rule; Regulatory Amendment to Implement an Exempted Fishery for the Spiny Dogfish Fishery Off Cape Cod, MA | 0648-BC50
195 | Framework Action to Set the Annual Catch Limit and Optionally the Annual Catch Target for the Gulf of Mexico Vermilion Snapper Stock | 0648-BC51
196 | Amendment 9 to the Fishery Management Plan for the Shrimp Fishery of the South Atlantic Region | 0648-BC58
197 | Regulatory Amendment 15 to the Fishery Management Plan for the Snapper-Grouper Fishery of the South Atlantic Region (Section 610 Review) | 0648-BC60
198 | Framework Action to set the 2013 Gag Recreational Fishing Season & Bag Limit & Modify the February-March Shallow-Water Grouper Closed Season | 0648-BC64
199 | Marine Mammal Protection Act Permit Regulation Revisions | 0648-AV82
200 | Reduce Sea Turtle Bycatch in Atlantic Trawl Fisheries | 0648-AY61
201 | Reduce the Threat of Ship Collisions with North Atlantic Right Whales | 0648-BB20
202 | Endangered and Threatened Species: Designation of Critical Habitat for Threatened Lower Columbia River Coho Salmon and Puget Sound Steelhead | 0648-BB30
203 | Amendment and Updates to the Bottlenose Dolphin Take Reduction Plan | 0648-BB37

National Oceanic and Atmospheric Administration—Final Rule Stage
Sequence No. | Title | Regulation Identifier No.
204 | Magnuson-Stevens Fishery Conservation and Management Reauthorization Act (MSRA) Environmental Review Procedure | 0648-AV53
205 | Addendum IV to the Weakfish Interstate Management Plan—Bycatch Trip Limit | 0648-AY41
206 | Atlantic Highly Migratory Species; Vessel Monitoring Systems | 0648-BA64
207 | Atlantic Highly Migratory Species Electronic Dealer Reporting Requirements | 0648-BA75
208 | To Establish a Voluntary Fishing Capacity Reduction Program in the Longline Catcher Processor Subsector of the Bering Sea and Aleutian Islands Management Area Non-Pollock Groundfish Fishery | 0648-BB06
209 | Framework Adjustment 47 to the Northeast Multispecies Fishery Management Plan | 0648-BB62
210 | Gulf of Mexico Reef Fish Amendment 34: Commercial Reef Fish Permit Requirements and Crew Size on Dual-Permitted Vessels | 0648-BB72
211 | 2012 Gulf of Mexico Gray Triggerfish Annual Catch Limits and Annual Catch Targets for the Commercial and Recreational Sectors; and In-Season Accountability Measures for the Recreational Sector | 0648-BB90
212 | Amendment 35 to the Reef Fish Fishery Management Plan Addressing Changes to the Greater Amberjack Rebuilding Plan and Adjustments to the Stock Annual Catch Limit in the Gulf of Mexico | 0648-BB97
213 | Framework Adjustment 6 to the Atlantic Mackerel, Squid and Butterfish Fishery Management Plan | 0648-BB99
214 | Georges Bank Yellowtail Flounder Emergency Action to Provide a Partial Exemption From Accountability Measures to the Atlantic Scallop Fishery | 0648-BC33
215 | Interim Final Rule for 2012 Butterfish Specifications | 0648-BC57
216 | Emergency Rule for a Temporary Action to Adjust the Commercial ACL for Yellowtail Snapper in the South Atlantic Snapper-Grouper Fishery | 0648-BC59
217 | Emergency Rule to set the 2012 Annual Catch Limit for the Gulf of Mexico Vermilion Snapper Stock | 0648-BC65
218 | False Killer Whale Take Reduction Plan (Section 610 Review) | 0648-BA30
219 | Revision of Hawaiian Monk Seal Critical Habitat | 0648-BA81
220 | Mandatory Use of Turtle Excluder Devices (TEDs) in Skimmer Trawls, Pusher-Head Trawls, and Wing Nets (Butterfly Trawls) | 0648-BC10

National Oceanic and Atmospheric Administration—Long-Term Actions
Sequence No. | Title | Regulation Identifier No.
221 | Marine Mammal Protection Act Stranding Regulation Revisions | 0648-AW22
222 | Amendment 6 to the Monkfish Fishery Management Plan | 0648-BA50
223 | Development of Island-Specific Fishery Management Plans (FMPs) in the Caribbean: Transition from Species-Specific FMPs to Island-Specific FMPs | 0648-BC17

National Oceanic and Atmospheric Administration—Completed Actions
Sequence No. | Title | Regulation Identifier No.
224 | Allowable Modifications to the Turtle Excluder Device Requirements | 0648-AW93
225 | Revoke Inactive Quota Share and Annual Individual Fishing Quota from a Holder of Quota Share Under the Pacific Halibut and Sablefish Fixed Gear Individual Fishing Quota Program | 0648-AX91
226 | Generic Amendment for Annual Catch Limits | 0648-AY22
227 | Comprehensive Annual Catch Limits Amendment to the Fishery Management Plan for the Snapper Grouper Fishery of the South Atlantic Region | 0648-AY73
228 | Amendment 20A to the Snapper Grouper Fishery Management Plan of the South Atlantic Region | 0648-AY74
229 | Amendment 24 to the Fishery Management Plan for the Snapper Grouper Fishery of the South Atlantic Region | 0648-BA52
230 | Regulatory Amendment 11 to the Fishery Management Plan for the Snapper Grouper Fishery of the South Atlantic Region | 0648-BB10
231 | Amendment 93 to Implement Chinook Salmon Prohibited Species Catch Limits in the Gulf of Alaska Pollock Fishery | 0648-BB24
232 | Implementation of Comprehensive Ecosystem Based Amendment 2 | 0648-BB26
233 | Emergency Rule to Increase the 2011 Catch Limits for the Northeast Skate Complex | 0648-BB32
234 | Rule to Delay the Effective Date of Atlantic Smoothhound Management Measures | 0648-BB43
235 | Amendment 11 to the Fishery Management Plan for Spiny Lobster in the Gulf of Mexico and South Atlantic | 0648-BB44
236 | Framework Adjustment 23 to the Atlantic Sea Scallop Fishery Management Plan | 0648-BB51
237 | 2012 Pacific Halibut Fisheries; Catch Sharing Plan | 0648-BB68
238 | 2012-2013 Specifications for the Northeast Skate Complex | 0648-BB83
239 | 2012 Tribal Fishery for Pacific Whiting | 0648-BB85
240 | Regulatory Amendment to Revise Fall Recreational Closed Season and Set Annual Catch Limit for Red Snapper | 0648-BB91
241 | Atlantic Highly Migratory Species; Silky Shark Management Measures | 0648-BB96
242 | 2012 Summer Flounder, Scup, and Black Sea Bass Recreational Harvest Measures | 0648-BC07
243 | Temporary Rule Through Emergency Action to Allow Harvest of Red Snapper in the South Atlantic Region in 2012 | 0648-BC32
244 | Revisions to the Turtle Excluder Device Requirements | 0648-AV04
245 | Amendment to Regulations Under the Bottlenose Dolphin Take Reduction Plan | 0648-BA34

Patent and Trademark Office—Final Rule Stage
Sequence No. | Title | Regulation Identifier No.
246 | Setting and Adjusting Patent Fees | 0651-AC54

Patent and Trademark Office—Completed Actions
Sequence No. | Title | Regulation Identifier No.
247 | Changes to Implement the Supplemental Examination Provisions of the Leahy-Smith America Invents Act and to Revise Reexamination Fees | 0651-AC69
248 | Rules of Practice for Trials Before the Patent Trial and Appeal Board and Judicial Review of Patent Trial and Appeal Board Decisions | 0651-AC70
249 | Changes to Implement Inter Partes Review Proceedings | 0651-AC71
250 | Changes to Implement Derivation Proceedings | 0651-AC74
251 | Transitional Program for Covered Business Method Patents—Definition for Technological Invention | 0651-AC75

DEPARTMENT OF COMMERCE (DOC)

International Trade Administration (ITA)

Final Rule Stage

162. Modification of Regulations Regarding the Definition of Factual Information and Time Limits for Submission of Factual Information

Legal Authority: 5 U.S.C. 301; 19 U.S.C. 1202 note; 19 U.S.C. 1303 note; 19 U.S.C. 1671 et seq.; 19 U.S.C. 3538.

Abstract: This rule will modify the definition of factual information for the purposes of antidumping and countervailing duty proceedings, and it will modify the time limits for submission of factual information in such proceedings.

Timetable:

Action | Date | FR Cite
NPRM | 07/10/12 | 77 FR 40534
NPRM Comment Period End | 08/24/12 |
Final Action | 12/00/12 |

Regulatory Flexibility Analysis Required: Yes.

Agency Contact: Charles Vannatta, Policy Analyst, Department of Commerce, International Trade Administration, 1401 Constitution Ave NW., Washington, DC 20230, Phone: 202 482-4036, Email: charles.vannatta@trade.gov.

RIN: 0625-AA91

DEPARTMENT OF COMMERCE (DOC)

International Trade Administration (ITA)

Long-Term Actions

163. Commercial Availability of Fabric and Yarn

Legal Authority: EO 13191; Pub. L. 106-200, sec 112(b)(5)(B); Pub. L. 106-200, sec 211; Pub. L. 107-210, sec 3103

Abstract: This rule implements certain provisions of the Trade and Development Act of 2000 (the Act). Title I of the Act (the African Growth and Opportunity Act or AGOA), title II of the Act (the United States-Caribbean Basin Trade Partnership Act or CBTPA), and title XXXI of the Trade Act of 2002 (the Andean Trade Promotion and Drug Eradication Act or ATPDEA) provide for quota- and duty-free treatment for qualifying apparel products from designated beneficiary countries. AGOA and CBTPA authorize quota- and duty-free treatment for apparel articles that are both cut (or knit-to-shape) and sewn or otherwise assembled in one or more designated beneficiary countries from yarn or fabric that is not formed in the United States or a beneficiary country, provided it has been determined that such yarn or fabric cannot be supplied by the domestic industry in commercial quantities in a timely manner. The President has delegated to the Committee for the Implementation of Textile Agreements (the Committee), which is chaired by the Department of Commerce, the authority to determine whether yarn or fabric cannot be supplied by the domestic industry in commercial quantities in a timely manner under the AGOA, the ATPDEA, and the CBTPA, and has authorized the Committee to extend quota- and duty-free treatment to apparel of such yarn or fabric. The rule provides the procedure for interested parties to submit a request alleging that a yarn or fabric cannot be supplied by the domestic industry in commercial quantities in a timely manner, the procedure for public comments, and relevant factors that will be considered in the Committee's determination. The rule also outlines the factors to be considered by the Committee in extending quota- and duty-free treatment.

Timetable:

Action | Date | FR Cite
NPRM | To Be Determined.

Regulatory Flexibility Analysis Required: Yes.

Agency Contact: Janet Heinzen, Phone: 202 482-4006, Email: janet_heinzen@ita.doc.gov.

RIN: 0625-AA59

DEPARTMENT OF COMMERCE (DOC)

National Oceanic and Atmospheric Administration (NOAA)

Prerule Stage

National Marine Fisheries Service

164. • Generic Amendment 4 for to Fishery Management Plans in the Gulf of Mexico: Fixed Petroleum Platforms and Artificial Reefs as Essential Fish Habitat

Legal Authority: 16 U.S.C. 1801 et seq.

Abstract: The Gulf of Mexico Fishery Management Council (Gulf Council) is concerned about the effect that the Removal of structures serving as artificial reef habitat may have on reef fish fisheries in the Gulf of Mexico. An abundance of individuals of managed reef fish species have come to associate with these structures over the past several decades. Fisheries, both recreational and commercial, have come to utilize these platforms as sites to catch these fish and the habitat provided by these structures may be necessary to support viable fish populations and associated fisheries. Artificial reefs are inhabited by a number of federally managed species and may provide important habitat necessary to fish for spawning, breeding, feeding or growth to maturity. The purpose of this action is to consider the role of this habitat as essential fish habitat (EFH) in accordance with the regulations at 50 CFR part 600 subpart J. This generic amendment is intended to modify seven of the Council's FMPs through the modification of the Generic Essential Fish Habitat Amendment. These include FMPs for: Reef Fish Resources, Coastal Migratory Pelagics, Shrimp, Stone Crab, Coral and Coral Reef Resources, Spiny Lobster, and Red Drum. Currently, there are no oil and gas structures in any U.S. waters designated as EFH, and the Gulf Council has not previously identified artificial structures as a separate habitat type for EFH identification purposes or included them in their definition of “hard bottoms.” In order for the National Marine Fisheries Service to approve the Gulf Council's proposal to designate oil and gas structures as EFH, the Gulf Council must demonstrate, using the best available scientific information, the necessary linkage of the habitat functions to major life history stages of species managed under the Magnuson-Stevens Act in accordance with the EFH regulations.

Timetable:

Action | Date | FR Cite
ANPRM | 01/00/13 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BC47

165. • Amendment 28 to the Fishery Management Plan for the Snapper Grouper Fishery of the South Atlantic Region

Legal Authority: 16 U.S.C. 1801

Abstract: A limited red snapper fishing season was established in 2012 through an emergency action under the Magnuson-Stevens Fishery Conservation and Management Act. The South Atlantic Fishery Management Council (Council) determined that some directed harvest could be allowed without compromising the rebuilding of the red snapper stock to target levels, and they saw the limited harvest as an opportunity to collect additional data on red snapper. Through Amendment 28, the Council intends to establish a process that would allow this type of limited harvest for red snapper in 2013 and in the future, depending on the projected mortalities (landings and discards) for the current fishing year and the amount of harvest from the previous year. The proposed actions would benefit fishermen and fishing communities that utilize the red snapper portion of the snapper grouper fishery.

Timetable:

Action | Date | FR Cite
ANPRM | 01/00/13 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BC63

DEPARTMENT OF COMMERCE (DOC)

National Oceanic and Atmospheric Administration (NOAA)

Proposed Rule Stage

National Marine Fisheries Service

166. Fishery Management Plan for Regulating Offshore Marine Aquaculture in the Gulf of Mexico

Legal Authority: 16 U.S.C. 1801 et seq.

Abstract: The purpose of this fishery management plan (FMP) is to develop a regional permitting process for regulating and promoting environmentally sound and economically sustainable aquaculture in the Gulf of Mexico (Gulf) exclusive economic zone. This FMP consists of ten actions, each with an associated range of management alternatives, which would facilitate the permitting of an estimated 5 to 20 offshore aquaculture operations in the Gulf over the next 10 years, with an estimated annual production of up to 64 million pounds. By establishing a regional permitting process for aquaculture, the Gulf of Mexico Fishery Management Council will be positioned to achieve their primary goal of increasing maximum sustainable yield and optimum yield of federal fisheries in the Gulf by supplementing harvest of wild caught species with cultured product.

Timetable:

Action | Date | FR Cite
Notice of Availability | 06/04/09 | 74 FR 26829
NOA Comment Period End | 08/03/09
NPRM | 03/00/13
Final Action | 07/00/13

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-AS65

167. American Lobster Fishery; Fishing Effort Control Measures to Complement Interstate Lobster Management Recommendations by the Atlantic States Marine Fisheries Commission

Legal Authority: 16 U.S.C. 5101 et seq.

Abstract: The National Marine Fisheries Service plans to revise the Federal American lobster regulations for the Exclusive Economic Zone (EEZ) associated with effort control measures as recommended for Federal implementation by the Atlantic States Marine Fisheries Commission (ASFMC) and as outlined in the Interstate Fishery Management Plan (ISFMP) for American Lobster. This action will evaluate effort control measures in certain Lobster Conservation Management Areas including: limits on future access based on historic participation criteria; procedures to allow trap transfers among qualifiers and impose a trap reduction or conservation tax on any trap transfers; and a trap reduction schedule to meet the goals of the ISFMP.

Timetable:

Action | Date | FR Cite
ANPRM | 05/10/05 | 70 FR 24495
ANPRM Comment Period End | 06/09/05
Notice of Public Meeting | 05/03/10 | 75 FR 23245
NPRM | 12/00/12

Regulatory Flexibility Analysis Required: Yes.

Agency Contact: Patricia A. Kurkul, Regional Administrator, Northeast Region, NMFS, Department of Commerce, National Oceanic and Atmospheric Administration, 55 Great Republic Way, Gloucester, MA 01930, Phone: 978 281-9200, Fax: 978 281-9117, Email: pat.kurkul@noaa.gov.

RIN: 0648-AT31

168. Amendment 3 to the Spiny Dogfish Fishery Management Plan

Legal Authority: 16 U.S.C. 1801

Abstract: The New England and Mid-Atlantic Fishery Management Councils (Councils) are preparing, in cooperation with NMFS, an Environmental Impact Statement (EIS) in accordance with the National Environmental Policy Act to assess potential effects on the human environment of alternative measures to address several issues regarding the Spiny Dogfish Fishery Management Plan (FMP). Issues that may be addressed include: initiating a Research Set-Aside provision; specifying the spiny dogfish quota and/or possession limits by sex; adding a recreational fishery to the FMP; identifying commercial quota allocation alternatives; and establishing a limited access fishery.

Timetable:

Action | Date | FR Cite
Notice of Intent to prepare an Environmental Impact Statement | 08/05/09 | 74 FR 30963
Notice of Intent | 08/05/09 | 74 FR 39063
Comment Period End | 09/04/09
Notice of Intent | 05/13/10 | 75 FR 26920
NPRM | 12/00/12

Regulatory Flexibility Analysis Required: Yes.

Agency Contact: Patricia A. Kurkul, Regional Administrator, Northeast Region, NMFS, Department of Commerce, National Oceanic and Atmospheric Administration, 55 Great Republic Way, Gloucester, MA 01930, Phone: 978 281-9200, Fax: 978 281-9117, Email: pat.kurkul@noaa.gov.

RIN: 0648-AY12

169. Amendment 14 to the Atlantic Mackerel, Squid, and Butterfish Fishery Management Plan

Legal Authority: 16 U.S.C. 1801 et seq.

Abstract: The purpose of Amendment 14 is to consider catch shares in the Loligo and Illex fisheries and monitoring/mitigation for river herring bycatch in mackerel, squid and butterfish (MSB) fisheries.

Timetable:

Action | Date | FR Cite
Notice of Intent | 06/09/10 | 75 FR 32745
NPRM | 12/00/12

Regulatory Flexibility Analysis Required: Yes.

Agency Contact: Patricia A. Kurkul, Regional Administrator, Northeast Region, NMFS, Department of Commerce, National Oceanic and Atmospheric Administration, 55 Great Republic Way, Gloucester, MA 01930, Phone: 978 281-9200, Fax: 978 281-9117, Email: pat.kurkul@noaa.gov.

RIN: 0648-AY26

170. Fisheries in the Western Pacific; Pelagic Fisheries; Purse Seine Fishing With Fish Aggregation Devices

Legal Authority: 16 U.S.C. 1801 et seq.

Abstract: The Western Pacific Council is amending the Pelagics Fishery Ecosystem Plan (FEP) to (1) Define fish aggregating devices (FADs) as purposefully-deployed or instrumented floating objects; (2) require FADs to be registered; and (3) prohibit purse seine fishing using FADs in the US EEZ of the western Pacific. The objective of this action is to appropriately balance the needs and concerns of the western Pacific pelagic fishing fleets and associated fishing communities with the conservation of tuna stocks in the western Pacific.

Timetable:

Action | Date | FR Cite
NPRM | 03/00/13

Regulatory Flexibility Analysis Required: Yes.

Agency Contact: Alvin Katekaru, Assistant Regional Administrator, Sustainable Fisheries, Department of Commerce, National Oceanic and Atmospheric Administration, 1601 Kapiolani Boulevard, Honolulu, HI 96814, Phone: 808 944-2207, Fax: 808 973-2941, Email: alvin.katekaru@noaa.gov.

RIN: 0648-AY36

171. Amendment 5 to the Atlantic Herring Fishery Management Plan

Legal Authority: 16 U.S.C. 1801

Abstract: Amendment 5 to the Atlantic Herring Fishery Management Plan will consider: catch monitoring programs; interactions with river herring; access by herring midwater trawl vessels in groundfish closed areas; and interactions with the mackerel fishery.

Timetable:

Action | Date | FR Cite
Supplemental Notice of Intent | 12/28/09 | 74 FR 68576
NPRM | 12/00/12

Regulatory Flexibility Analysis Required: Yes.

Agency Contact: Patricia A. Kurkul, Regional Administrator, Northeast Region, NMFS, Department of Commerce, National Oceanic and Atmospheric Administration, 55 Great Republic Way, Gloucester, MA 01930, Phone: 978 281-9200, Fax: 978 281-9117, Email: pat.kurkul@noaa.gov.

RIN: 0648-AY47

172. Amendment To Recover the Administrative Costs of Processing Permit Applications

Legal Authority: 16 U.S.C. 1801 et seq.; 16 U.S.C. 1853; 16 U.S.C. 1854; 16 U.S.C. 3631 et seq.; 16 U.S.C. 773 et seq.; Pub. L. 108-447

Abstract: This action amends the fishery management plans of the North Pacific Fishery Management Council and revises federal regulations at 50 CFR part 679 to recover the administrative costs of processing applications for permits required under those plans.

Timetable:

Action | Date | FR Cite
NPRM | 01/00/13
Final Rule | 03/00/13

Regulatory Flexibility Analysis Required: Yes.

Agency Contact: Robert D. Mecum, Deputy Acting Administrator, Department of Commerce, National Oceanic and Atmospheric Administration, Room 420, 709 West Ninth Street, Juneau, AK 99802, Phone: 907 586-7221, Fax: 907 586-7249, Email: robert.mecum@noaa.gov.

RIN: 0648-AY81

173. Amendment 22 to the Fishery Management Plan for the Snapper Grouper Fishery of the South Atlantic Region

Legal Authority: 16 U.S.C. 1801 et seq.

Abstract: The purpose of the amendment is to establish a long-term red snapper fishery management program in the South Atlantic to optimize yield and rebuild the stock, while minimizing socioeconomic impacts. More specifically, these alternatives will consider the elimination of harvest restrictions on red snapper as the stock increases in biomass.

Timetable:

Action | Date | FR Cite
Notice of Intent | 01/03/11 | 76 FR 101
Notice of Intent Comment Period End | 02/14/11
NPRM | 02/00/13

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BA53

174. Amendment 21 to the Snapper-Grouper Fishery Management Plan of the South Atlantic Region

Legal Authority: 16 U.S.C. 1801 et seq.

Abstract: Amendment 21 examines measures to limit participation in the snapper grouper fishery including endorsements, trip limits, and catch share programs.

Timetable:

Action | Date | FR Cite
NPRM | 02/00/13

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BA59

175. Amendment 6 to the Golden Crab Fishery Management Plan of the South Atlantic

Legal Authority: 16 U.S.C. 1801 et seq.

Abstract: Golden Crab Amendment 6 examines alternatives for a catch share program to limit participation in the golden crab fishery.

Timetable:

Action | Date | FR Cite
Notice of Intent | 01/03/11 | 76 FR 98
NPRM | 12/00/12

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BA60

176. Implement the 2010 Shark Conservation Act Provisions and Other Regulations in the Atlantic Smoothhound Shark Fishery

Legal Authority: 16 U.S.C. 1801 et seq.

Abstract: This rule considers changes in the Atlantic shark fishery to comply with the 2010 Shark Conservation Act. Additionally, the rule reexamines the overall smoothhound shark quota based upon updated catch data and will implement measures, as needed, to comply with the Endangered Species Act.

Timetable:

Action | Date | FR Cite
NPRM | 12/00/12

Regulatory Flexibility Analysis Required: Yes.

Agency Contact: Margo Schulze-Haugen, Supervisory Fish Management Officer, Department of Commerce, National Oceanic and Atmospheric Administration, 1315 East-West Highway, Silver Spring, MD 20910, Phone: 301 713-0234, Fax: 301 713-1917, Email: margo.schulze-haugen@noaa.gov.

RIN: 0648-BB02

177. Fisheries Off West Coast States; Pacific Coast Groundfish Fishery; Trawl Rationalization Program; Cost Recovery Program

Legal Authority: 16 U.S.C. 1853

Abstract: This rulemaking would implement a Cost Recovery Program for the Pacific Coast Groundfish Trawl Rationalization Program (TRAT). In accordance with the Magnuson-Stevens Fishery Conservation and Management Act (MSA) 16 U.S.C. 1853a MSA 303A(d)(2), the Secretary of Commerce is authorized to collect a fee to recover the actual costs directly related to the management, data collection, and enforcement of any limited access privilege program (LAPP), up to 3% of the ex-vessel value of the fish harvested under the LAPP. The Pacific Fishery Management Council (Council) recommended and NMFS approved Amendment 20 to the Pacific Coast Groundfish Fishery Management Plan (FMP) in 2010, which acknowledged the MSA requirement for a Cost Recovery Program (Appendix E to the FMP). NMFS implemented most of the Trawl Rationalization Program in January 2011 with notice that the design and implementation of a Cost Recovery Program would follow.

Timetable:

Action | Date | FR Cite
NPRM | 12/00/12

Regulatory Flexibility Analysis Required: Yes.

Agency Contact: Frank Lockhart, Program Analyst, Department of Commerce, National Oceanic and Atmospheric Administration, 7600 Sand Point Way NE., Seattle, WA 98115, Phone: 206 526-6142, Fax: 206 526-6736, Email: frank.lockhart@noaa.gov.

RIN: 0648-BB17

178. Amendment 18B to the Snapper Grouper Fishery Management Plan of the South Atlantic Region

Legal Authority: 16 U.S.C. 1801 et seq.

Abstract: Amendment 18B to the Fishery Management Plan for the Snapper Grouper Fishery of the South Atlantic Region may: limit participation in the golden tilefish portion of the Snapper Grouper fishery; establish initial eligibility requirements for a golden tilefish longline endorsement; establish an appeals process; allocate commercial golden tilefish quota among gear groups; allow for transferability of golden tilefish endorsements; adjust the golden tilefish fishing year; modify the golden tilefish fishing limits; and establish trip limits for fishermen who do not receive a golden tilefish longline endorsement.

Timetable:

Action | Date | FR Cite
NPRM | 12/00/12

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BB58

179. Amendment 89 to the GOA FMP Area Closures for Chionoecetes Bairdi Crab Protection in Gulf of Alaska Groundfish Fisheries

Legal Authority: 16 U.S.C. 1540; 16 U.S.C. 1801 et seq.; 16 U.S.C. 3631 et seq.; 16 U.S.C. 773 et seq.; Pub. L. 105-277; Pub. L. 106-31

Abstract: This action, Amendment 89 to the GOA FMP Area Closures for Chionoecetes bairdi, will provide crab protection in Gulf of Alaska Groundfish Fisheries. This action would close a portion of Marmot Bay, northeast of Kodiak Island, to the use of pot and trawl gear (with the exception of pelagic gear used to target pollock) in groundfish fisheries year-round and require additional observer coverage (100 percent for trawl vessels and 30 percent for pot vessels), in two areas east of Kodiak Island: the Chiniak Gully and State of Alaska Statistical Area 525702. This action is necessary to protect stocks of Tanner crab near Kodiak Islands from the effects of using non-pelagic trawl and pot gear used to target groundfish in Marmot Bay and to provide improved estimates of the incidental catch of Tanner crab in two areas east of Kodiak Island by vessels using non-pelagic trawl and pot gear and to accomplish the goals and objectives of the Fishery Management Plan for Groundfish of the Gulf of Alaska. The intended effect of this action is to conserve and manage the fisheries resources in the GOA in accordance with the Magnuson-Stevens Fishery Conservation and Management Act.

Timetable:

Action | Date | FR Cite
Proposed Rule | 12/00/12

Regulatory Flexibility Analysis Required: Yes.

Agency Contact: James Balsiger, Administrator, Alaska Region, Department of Commerce, National Oceanic and Atmospheric Administration, 709 West Ninth Street, Juneau, AK 99801, Phone: 907 586-7221, Fax: 907 586-7465, Email: jim.balsiger@noaa.gov.

RIN: 0648-BB76

180. Amendment to the Vessel Ownership Requirements of the Individual Fishing Quota (IFQ) Program for Fixed-Gear Pacific Halibut and Sablefish Fisheries in and Off of Alaska

Legal Authority: 16 U.S.C. 1801 et seq.; 16 U.S.C. 3631 et seq.; 16 U.S.C. 773 et seq.; Pub. L. 108-447

Abstract: This action amends the vessel ownership requirements of the Individual Fishing Quota (IFQ) Program for fixed-gear Pacific halibut and sablefish fisheries in and off of Alaska. This action requires initial recipients of certain classes of quota share to have held a minimum of 20 percent ownership interest in the vessel for at least 12 consecutive months prior to the submission of an application to hire a master for the purposes of fishing an IFQ permit. This action also temporarily exempts from the 12-month ownership requirement an initial recipient whose vessel has been totally lost, as by sinking or fire, or so damaged that the vessel would require at least 60 days of shipyard time to be repaired. This action is necessary to maintain a predominantly owner-operated fishery.

Timetable:

Action | Date | FR Cite
NPRM | 12/00/12

Regulatory Flexibility Analysis Required: Yes.

Agency Contact: James Balsiger, Administrator, Alaska Region, Department of Commerce, National Oceanic and Atmospheric Administration, 709 West Ninth Street, Juneau, AK 99801, Phone: 907 586-7221, Fax: 907 586-7465, Email: jim.balsiger@noaa.gov.

RIN: 0648-BB78

181. Pacific Coast Groundfish Trawl Rationalization Program Reconsideration of Allocation of Whiting (RAW 2)

Legal Authority: 16 U.S.C. 1801 et seq.

Abstract: On February 21, 2012, Judge Henderson issued the remedy order in Pacific Dawn, LLC v. Bryson, No. C10-4829 TEH (N.D. Cal.). The Order remands the regulations addressing the initial allocation of whiting for the shorebased individual fishing quota (IFQ) fishery and the at-sea mothership fishery of the Pacific Coast Groundfish Trawl Rationalization Program (program) “for further consideration” consistent with the court's December 22, 2011 summary judgment ruling, the Magnuson-Stevens Fishery Conservation and Management Act (MSA), and all other governing law. Further, the Order requires that the National Marine Fisheries Service (NMFS) implement revised regulations before the 2013 Pacific whiting fishing season begins on April 1, 2013. This action would implement revised regulations, as appropriate, including a reallocation of whiting and potentially some related species. This action may include a Paperwork Reduction Act package to clear application forms, and any other necessary documentation.

Timetable:

Action | Date | FR Cite
ANPRM | 04/04/12 | 77 FR 20337
Proposed Rule | 12/00/12

Regulatory Flexibility Analysis Required: Yes.

Agency Contact: Frank Lockhart, Program Analyst, Department of Commerce, National Oceanic and Atmospheric Administration, 7600 Sand Point Way NE., Seattle, WA 98115, Phone: 206 526-6142, Fax: 206 526-6736, Email: frank.lockhart@noaa.gov.

RIN: 0648-BC01

182. Framework Adjustment 5 to the Atlantic Mackerel, Squid, and Butterfish Fishery Management Plan

Legal Authority: 16 U.S.C. 1801 et seq.

Abstract: This action will expand the list of marine surveyors allowed to complete a fish hold volume certification for vessels issued a Tier 1 or Tier 2 limited access mackerel permit. Currently only individuals credentialed as marine surveyors by the Society of Marine Surveyors (SAMS) or the National Association of Marine Surveyors (NAMS) are allowed to complete fish hold measurements for such vessels.

Timetable:

Action | Date | FR Cite
NPRM | 12/00/12
Final Action | 02/00/13

Regulatory Flexibility Analysis Required: Yes.

Agency Contact: Daniel Morris, Acting Northeast Regional Administrator, Department of Commerce, National Oceanic and Atmospheric Administration, 55 Great Republic Drive, Gloucester, MA 01930, Phone: 978 281-9311, Email: daniel.morris@noaa.gov.

RIN: 0648-BC08

183. Generic Amendment to Several Fishery Management Plans in the Gulf of Mexico and South Atlantic Regions To Modify Federally-Permitted Seafood Dealer Reporting Requirements

Legal Authority: 16 U.S.C. 1801 et seq.

Abstract: The purpose of this generic amendment is to change the current reporting requirements for those individuals or organizations that purchase species contained in fishery management plans managed by the Gulf of Mexico and South Atlantic Fishery Management Councils. Changes are proposed to the method/frequency of dealer reporting and the species that must be reported. To ensure landings of managed fish stocks are below annual catch limits, improvements are needed to the accuracy, completeness, consistency, and timeliness of data submitted by federally-permitted seafood dealers. This action will aid in achieving the optimum yield from each fishery while reducing (1) undue socioeconomic harm to dealers and fishermen and (2) administrative burdens to fishery agencies.

Timetable:

Action | Date | FR Cite
NPRM | 12/00/12

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BC12

184. • Amendment 4 to the Fishery Management Plan for the Reef Fish Fishery of Puerto Rico and the U.S. Virgin Islands: Parrotfish Size Limits

Legal Authority: 16 U.S.C. 1801 et seq.

Abstract: At the December 2011 Council meeting, the Caribbean Fishery Management Council decided to amend the Fishery Management Plan for the Reef Fish Fishery of Puerto Rico and the U.S. Virgin Islands to address size limits for parrotfish. These proposed regulations would allow juvenile parrotfish to mature into reproductively active females, and have a chance to spawn prior to harvest. Reproductively active females are a necessary component of a healthy, sustainable population.

Timetable:

Action | Date | FR Cite
NPRM | 02/00/13

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BC20

185. • Comprehensive Ecosystem Based Amendment 3

Legal Authority: 16 U.S.C. 1801 et seq.

Abstract: Actions in Comprehensive Ecosystem-Based Amendment 3 (CE-BA 3) address improvements in data collection methods in the South Atlantic. Measures include improvements in data collection methods in commercial, for-hire, and recreational fisheries.

Timetable:

Action | Date | FR Cite
NPRM | 12/00/12

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BC22

186. • Amendment 42 to the Fishery Management Plan for Bering Sea/Aleutian Islands King and Tanner Crabs

Legal Authority: 16 U.S.C. 1801 et seq.; Pub. L. 109-241; Pub. L. 109-479

Abstract: NMFS proposes regulations to implement Amendment 42 to the Fishery Management Plan for Bering Sea/Aleutian Islands King and Tanner Crabs (FMP). Amendment 42 revises the economic data reports (EDR) for catcher vessels, catcher/processors, shoreside processors, and stationary floating processors that are submitted annually by participants in the Bering Sea and Aleutian Islands Crab Rationalization Program (CR Program). These revisions are proposed through a general description in regulation of the collection of data, and a detailed description for data collected for approval by the Office of Management and Budget (OMB) under the Paperwork Reduction Act (PRA). This action is necessary to prevent redundancy, increase consistent reporting across respondents, and reduce excessive costs associated with the data collection. This proposed action is intended to promote the goals and objectives of the Magnuson-Stevens Fishery Conservation and Management Act (Magnuson-Stevens Act) and the FMP.

Timetable:

Action | Date | FR Cite
NPRM | 12/00/12
Final Action | 05/00/13

Regulatory Flexibility Analysis Required: Yes.

Agency Contact: James Balsiger, Administrator, Alaska Region, Department of Commerce, National Oceanic and Atmospheric Administration, 709 West Ninth Street, Juneau, AK 99801, Phone: 907 586-7221, Fax: 907 586-7465, Email: jim.balsiger@noaa.gov.

RIN: 0648-BC25

187. • Framework Adjustment to the Northeast Multispecies Fishery Management Plan for 2013-2014 Annual Catch Limits (ACLS) and Other Management Measures

Legal Authority: 16 U.S.C. 1801 et seq.

Abstract: This framework adjustment to the Northeast Multispecies Fishery Management Plan, likely to be enumerated Framework Adjustment 48, would set specifications (i.e., catch allowances and management measures designed to ensure those allowances are not exceeded) for fishing year (FY) 2013, 2014, and possibly 2015. This action would also adopt total allowable catches (TACs) for the U.S./Canada Management Area, consisting with the U.S./Canada Resource Sharing Understanding. In addition, the framework adjustment may revise the status determination criteria for the Gulf of Maine and Georges bank cod stocks and white hake. The action will likely include comprehensive modifications to the operations of sectors in the Northeast, designed to improve efficiency, monitoring, and catch accounting. The New England Fishery Management Council is expected to take final action on the measures to be included in the action in November 2012.

Timetable:

Action | Date | FR Cite
NPRM | 12/00/12

Regulatory Flexibility Analysis Required: Yes.

Agency Contact: Michael Ruccio, Department of Commerce, National Oceanic and Atmospheric Administration, 55 Great Republic Drive, Gloucester, MA 01930, Phone: 978 281-9104, Email: michael.ruccio@noaa.gov.

RIN: 0648-BC27

188. • Amendment 43 to the FMP for BSAI King and Tanner Crabs and Amendment 103 to the FMP for Groundfish of the BSAI

Legal Authority: 16 U.S.C. 1801

Abstract: Amendment 43 to the Fishery Management Plan for Bering Sea/Aleutian Islands King and Tanner Crabs revises the current rebuilding plan for Pribilof Islands blue king crab (PIBKC) and Amendment 103 to the Fishery Management Plan for Groundfish of the Bering Sea and Aleutian Islands Management Area would implement groundfish fishing restrictions. A no-trawl Pribilof Islands Habitat Conservation Zone (PIHCZ) was established in 1995 and the directed fishery for PIBKC has been closed since 1999. A rebuilding plan was implemented in 2003; however, PIBKC remains overfished and the current rebuilding plan has not achieved adequate progress toward rebuilding the stock by 2014. The proposed rule would close the PIHCZ to all Pacific cod pot fishing in addition to the current trawl prohibition. This measure would help support PIBKC rebuilding and prevent exceeding the overfishing limit of PIBKC by minimizing to the extent practical PIBKC bycatch in the groundfish fisheries.

Timetable:

Action | Date | FR Cite
NPRM | 01/00/13

Regulatory Flexibility Analysis Required: Yes.

Agency Contact: James Balsiger, Administrator, Alaska Region, Department of Commerce, National Oceanic and Atmospheric Administration, 709 West Ninth Street, Juneau, AK 99801, Phone: 907 586-7221, Fax: 907 586-7465, Email: jim.balsiger@noaa.gov.

RIN: 0648-BC34

189. • Amendment 38 to the Fishery Management Plan for Reef Fish Resources in the Gulf of Mexico

Legal Authority: 16 U.S.C. 1801 et seq.

Abstract: Amendment 38 consists of two management actions. The first action would revise post-season accountability measures for shallow-water grouper species. Currently, the accountability measures include in-season closures, post-season adjustments to the length of the recreational fishing season, and overage adjustments for overfished grouper stocks. This action modifies the specific post-season accountability measure that reduces the length of the recreational season for all shallow-water grouper in the year following a year in which the annual catch limit (ACL) for gag or red grouper is exceeded. The modified accountability measure would reduce the recreational season only for the species that exceeded its ACL. The second action would modify the reef fish framework procedure. The addition of accountability measures to the list of items that can be changed through the standard framework procedure would allow for faster implementation of measures designed to maintain harvest at or below the ACL. Additionally, more general language would be added to the framework to accommodate future changes in naming of the Councils advisory committees and panels.

Timetable:

Action | Date | FR Cite
NPRM | 01/00/13

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BC37

190. • Amendment 4 to the U.S. Caribbean Coral FMP: Seagrass Management

Legal Authority: 16 U.S.C. 1801 et seq.

Abstract: NOAA Fisheries and the Caribbean Fishery Management Council propose Amendment 4 to address the Magnuson-Stevens Fishery Conservation and Management Act requirement to establish annual catch limits (ACLs) and accountability measures (AMs) for seagrass species in the Corals and Reef Associated Plants and Invertebrates Fishery Management Plan (Coral FMP). ACLs and AMs were not established for seagrass in the 2011 Comprehensive Annual Catch Limit Amendment.

Timetable:

Action | Date | FR Cite
NPRM | 03/00/13

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BC38

191. • Amendment 95 to the Fishery Management Plan for Groundfish of the Gulf of Alaska

Legal Authority: 16 U.S.C. 1801 et seq.

Abstract: This action implements Amendment 95 to the Fishery Management Plan for Groundfish of the Gulf of Alaska (FMP). This action modifies halibut prohibited species catch (PSC) management in the Gulf of Alaska (GOA) to (1) Establish the GOA halibut PSC limits in federal regulation; (2) reduce the GOA halibut PSC limits for the trawl, hook and line catcher/processor and catcher vessel sectors, and the hook and line demersal shelf rockfish fishery in the Southeast Outside District; and (3) allow two additional options for vessels to better maintain groundfish harvest while achieving the halibut PSC reduction of this action. This action is necessary to reduce halibut bycatch in the GOA. This action is intended to promote the goals and objectives of the Magnuson-Stevens Fishery Conservation and Management Act, the FMP, and other applicable law.

Timetable:

Action | Date | FR Cite
NPRM | 01/00/13

Regulatory Flexibility Analysis Required: Yes.

Agency Contact: James Balsiger, Administrator, Alaska Region, Department of Commerce, National Oceanic and Atmospheric Administration, 709 West Ninth Street, Juneau, AK 99801, Phone: 907 586-7221, Fax: 907 586-7465, Email: jim.balsiger@noaa.gov.

RIN: 0648-BC39

192. • 2013 Atlantic Mackerel, Squid, and Butterfish Fishery Specifications and Management Measures

Legal Authority: 16 U.S.C. 1801 et seq.

Abstract: These specifications are for the 2013 fishing year for Atlantic mackerel, squid, and butterfish (MSB). Regulations governing these fisheries require NMFS to publish specifications for the upcoming fishing year and to provide an opportunity for public comment. The intent of this action is to fulfill this requirement and to promote the development and conservation of the MSB resources.

Timetable:

Action | Date | FR Cite
NPRM | 03/00/13 |

Regulatory Flexibility Analysis Required: Yes.

Agency Contact: Lindsey Feldman, Department of Commerce, National Oceanic and Atmospheric Administration, 55 Great Republic Drive, Gloucester, MA 01930, Phone: 978 675-2179.

RIN: 0648-BC40

193. • Management Measures for Pacific Bluefin Tuna in the Eastern Pacific Ocean

Legal Authority: 16 U.S.C. 951-961 et seq.

Abstract: At its annual meeting, the Inter-American Tropical Tuna Commission (IATTC) adopted Resolution C-12-09, Conservation and Management Measure for Bluefin Tuna in the Eastern Pacific Ocean. This rule will implement that resolution for U.S. commercial fishing in the Eastern Pacific Ocean for 2012 and 2013 by preventing further commercial retention of bluefin tuna after (1) the commercial catches of bluefin tuna by the international fleet reaches 10,000 metric tons; (2) the commercial catch of bluefin tuna by the international fleet reaches 5,600 metric tons during the year 2012. Notwithstanding these restrictions, the United States commercial fishery may take a catch of up to 500 metric tons of pacific bluefin tuna in 2012 and 2013. The pacific bluefin commercial catch limitations are not expected to result in a closure of the United States fishery because catches from recent years have not reached the 500 metric ton limit. The last time the United States exceeded 500 metric tons was in 1998.

Timetable:

Action | Date | FR Cite
NPRM | 12/00/12 |
Final Action | 03/00/13 |

Regulatory Flexibility Analysis Required: Yes.

Agency Contact: Mark Helvey, Assistant Regional Administrator for Sustainable Fisheries, Department of Commerce, National Oceanic and Atmospheric Administration, 501 West Ocean Boulevard, Long Beach, CA 90802, Phone: 562 980-4040, Fax: 562 980-4047, Email: mark.helvey@noaa.gov.

RIN: 0648-BC44

194. • Proposed Rule; Regulatory Amendment To Implement an Exempted Fishery for the Spiny Dogfish Fishery Off Cape Cod, MA

Legal Authority: sec 303(b)(6) of the Magnuson-Stevens Fishery Conservation and Management Act

Abstract: NMFS proposes to modify the regulations implementing the Northeast (NE) Multispecies Fishery Management Plan (FMP) to allow vessels to fish with gillnet and longline gear from June through December and with handline gear from June through August in a portion of inshore Georges Bank (GB) each year, outside of the requirements of the NE multispecies fishery. This action would allow vessels to harvest spiny dogfish and other non-groundfish species in a manner that is consistent with the bycatch reduction objectives of the FMP.

Timetable:

Action | Date | FR Cite
Proposed Rule | 01/00/13 |

Regulatory Flexibility Analysis Required: Yes.

Agency Contact: Travis Ford, Department of Commerce, National Oceanic and Atmospheric Administration, 55 Great Republic Drive, Gloucester, MA 01930, Phone: 978 281-9233.

RIN: 0648-BC50

195. • Framework Action To Set the Annual Catch Limit and Optionally the Annual Catch Target for the Gulf of Mexico Vermilion Snapper Stock

Legal Authority: 16 U.S.C. 1801 et seq.

Abstract: The current vermilion snapper annual catch limit (ACL) is 3.42 million pounds (mp). A 2011 stock assessment indicates vermilion snapper are not overfished or undergoing overfishing. Based on the assessment, the Gulf of Mexico Fishery Management Council's (Council) Scientific and Statistical Committee (SSC) has recommended an acceptable biological catch level much higher than the current ACL (> 1 mp). This framework action evaluates different options for setting the ACL and (optionally) an annual catch target consistent with the SSC's recommendation while minimizing the risk of overfishing. The Council has requested a subsequent emergency rule that will increase the 2012 ACL to avoid a closure of the vermilion snapper component of the Gulf of Mexico reef fish fishery.

Timetable:

Action | Date | FR Cite
NPRM | 12/00/12 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BC51

196. • Amendment 9 to the Fishery Management Plan for the Shrimp Fishery of the South Atlantic Region

Legal Authority: Magnuson Stevens Act

Abstract: Shrimp Amendment 9 would streamline the process by which States request concurrent closures of Federal waters to protect overwintering shrimp species. The amendment would also update the Bmsy proxy for pink shrimp.

Timetable:

Action | Date | FR Cite
Proposed Rule | 12/00/12 |

Regulatory Flexibility Analysis Required: Yes.

Agency Contact: Roy E. Crabtree, Southeast Regional Administrator, Department of Commerce, National Oceanic and Atmospheric Administration, 263 13th Avenue South, St. Petersburg, FL 3370, Phone: 727 824-5305, Fax: 727 824-5308, Email: roy.crabtree@noaa.gov.

RIN: 0648-BC58

197. • Regulatory Amendment 15 to the Fishery Management Plan for the Snapper-Grouper Fishery of the South Atlantic Region (Section 610 Review)

Legal Authority: 16 U.S.C. 1801

Abstract: The regulatory amendment contains the following two actions: (1) Modify the current yellowtail snapper ABCs and ACLs according to a new stock assessment. In addition, consider changes to the January 1 commercial start date and consider establishing a commercial spawning season closure in order to promote beneficial biological effects to the yellowtail snapper population by protecting fish during spawning periods. Actions are intended to also promote beneficial socioeconomic effects to fishermen and fishing communities that utilize the yellowtail portion of the snapper grouper fishery by increasing the probability of a year-round fishery and minimizing the probability of closures during peak harvest times. (2) Modify the existing commercial AM for gag grouper in order to reduce adverse socioeconomic effects to fishermen and fishing communities that utilize the shallow water grouper portion of the snapper grouper fishery.

Timetable:

Action | Date | FR Cite
Proposed Rule | 01/00/13 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BC60

198. • Framework Action To Set the 2013 Gag Recreational Fishing Season & Bag Limit & Modify the February-March Shallow-Water Grouper Closed Season

Legal Authority: 16 U.S.C. 1801 et seq.

Abstract: Gulf of Mexico gag is overfished and the stock currently in a rebuilding plan. The rebuilding plan is scheduled to increase the recreational annual catch target from 1.031 to 1.287 million pounds in 2013. The current recreational gag season is July 1 to October 31 and was designed to limit the harvest to the 2012 recreational annual catch target of 1.031 million pounds while providing the longest possible recreational season. One purpose of this framework action is to establish a 2013 gag recreational fishing season consistent with 1.287 million pound annual catch target, but to modify the season opening to provide greater socioeconomic benefits to the recreational community. Moving the season to a time when there is greater fishing effort will reduce the number of days available to fish. To counteract this, this framework action also considers setting a one fish bag limit for gag rather than 2 fish. The current recreational shallow-water grouper closed season of February 1 through March 31 was developed partly to protect gag spawning aggregations. However, because a separate recreational gag season has been developed as part of the gag rebuilding plan and other shallow-water grouper stocks are considered healthy, the utility of the shallow-water grouper closure has been questioned. Therefore, a second purpose of this framework action is to evaluate the shallow-water grouper recreational closure to see if it should be modified or eliminated. The underlying need for this action is established by the Magnuson-Stevens Fishery Conservation and Management Act which requires NOAA Fisheries Service and regional fishery management councils to prevent overfishing, and achieve, on a continuing basis, the optimum yield from federally managed fish stocks.

Timetable:

Action | Date | FR Cite
NPRM | 12/00/12 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BC64

199. Marine Mammal Protection Act Permit Regulation Revisions

Legal Authority: 16 U.S.C. 1374

Abstract: The National Marine Fisheries Service (NMFS) is considering changes to its implementing regulations (50 CFR 216) governing the issuance of permits for scientific research and enhancement activities under section 104 of the Marine Mammal Protection Act and is soliciting public comment to better inform the process. NMFS intends to streamline and clarify general permitting requirements and requirements for scientific research and enhancement permits, simplify procedures for transferring marine mammal parts, possibly apply the General Authorization (GA) to research activities involving Level A harassment of non-endangered marine mammals, and implement a “permit application cycle” for application submission and processing of all marine mammal permits. NMFS intends to write regulations for marine mammal photography permits and is considering whether this activity should be covered by the GA.

Timetable:

Action | Date | FR Cite
ANPRM | 09/13/07 | 72 FR 52339
ANPRM Comment Period Extended | 10/15/07 | 72 FR 58279
ANPRM Comment Period End | 11/13/07 | 72 FR 52339
ANPRM Comment Period End | 12/13/07 | 72 FR 58279
NPRM | 05/00/13 |

Regulatory Flexibility Analysis Required: Yes.

Agency Contact: Helen Golde, Department of Commerce, National Oceanic and Atmospheric Administration, Marine Sanctuaries Division, 1305 East-West Highway, Silver Spring, MD 20910, Phone: 301 427-8400, Email: helen.golde@noaa.gov.

RIN: 0648-AV82

200. Reduce Sea Turtle Bycatch in Atlantic Trawl Fisheries

Legal Authority: 16 U.S.C. 1531 et seq.

Abstract: NMFS is initiating a rulemaking action to reduce injury and mortality to endangered and threatened sea turtles resulting from incidental take, or bycatch, in trawl fisheries in the Atlantic waters. NMFS will likely address the size of the turtle excluder device (TED) escape opening currently required in the summer flounder trawl fishery, the definition of a summer flounder trawler, and the use of TEDs in this fishery; the use of TEDs in the croaker and weakfish flynet, whelk, Atlantic sea scallop, and calico scallop trawl fisheries of the Atlantic Ocean; and new seasonal and temporal boundaries for TED requirements. In addition, this rule will address the definition of the Gulf Area applicable to the shrimp trawl fishery in the southeast Atlantic and Gulf of Mexico. The purpose of the rule is to aid in the protection and recovery of listed sea turtle populations by reducing mortality in trawl fisheries through the use of TEDs.

Timetable:

Action | Date | FR Cite
NPRM | 02/00/13 |

Regulatory Flexibility Analysis Required: Yes.

Agency Contact: Helen Golde, Department of Commerce, National Oceanic and Atmospheric Administration, Marine Sanctuaries Division, 1305 East-West Highway, Silver Spring, MD 20910, Phone: 301 427-8400, Email: helen.golde@noaa.gov.

RIN: 0648-AY61

201. Reduce the Threat of Ship Collisions With North Atlantic Right Whales

Legal Authority: 16 U.S.C. 1361 et seq.; 16 U.S.C. 1531 et seq.

Abstract: NMFS may renew a requirement currently contained in vessel speed restrictions designed to reduce the likelihood of vessel collisions with North Atlantic right whales. The regulations require speed restrictions of no more than 10 knots applying to all vessels 65 ft (19.8 m) or greater in overall length in certain locations and at certain times of the year along the east coast of the U.S. Atlantic seaboard. The rule is currently set to expire December 9, 2013. NMFS seeks public comment on the proposed rule.

Timetable:

Action | Date | FR Cite
NPRM | 02/00/13 |

Regulatory Flexibility Analysis Required: Yes.

Agency Contact: Helen Golde, Department of Commerce, National Oceanic and Atmospheric Administration, Marine Sanctuaries Division, 1305 East-West Highway, Silver Spring, MD 20910, Phone: 301 427-8400, Email: helen.golde@noaa.gov.

RIN: 0648-BB20

202. Endangered and Threatened Species: Designation of Critical Habitat for Threatened Lower Columbia River Coho Salmon and Puget Sound Steelhead

Legal Authority: 16 U.S.C. 1531-1544

Abstract: We, the National Marine Fisheries Service, are proposing critical habitat designations for lower Columbia River coho salmon and Puget Sound steelhead, currently listed as threatened species under the Endangered Species Act. The areas under consideration include watersheds in the lower Columbia River basin in southwest Washington and northwest Oregon, as well as watersheds in Puget Sound and the Strait of Juan de Fuca in Washington. This rulemaking identifies the areas proposed for designation and solicits comments regarding them as well as the supporting economic, biological, and policy analyses.

Timetable:

Action | Date | FR Cite
NPRM | 12/00/12 |

Regulatory Flexibility Analysis Required: Yes.

Agency Contact: James H. Lecky, Director, Office of Protected Resources, Department of Commerce, National Oceanic and Atmospheric Administration, 1315 East-West Highway, Silver Spring, MD 20910, Phone: 301 713-2332, Fax: 301 427-2520, Email: jim.lecky@noaa.gov.

RIN: 0648-BB30

203. Amendment and Updates to the Bottlenose Dolphin Take Reduction Plan

Legal Authority: 16 U.S.C. 1361 et seq.; 16 U.S.C. 1531 et seq.

Abstract: Serious injury and mortality of the Western North Atlantic bottlenose dolphin stocks incidental to Category I and II fisheries continue at levels potentially exceeding Potential Biological Removal (PBR) levels, requiring additional management measures under the Bottlenose Dolphin Take Reduction Plan (BDTRP). This action amends the BDTRP to reduce serious injury and mortality of bottlenose dolphins in the Virginia pound net fishery (Category II). The need for the action is to ensure the BDTRP meets its MMPA mandated short- and long-term goals. NMFS examined a number of management measures, including consensus recommendations from the Bottlenose Dolphin Take Reduction Team, designed to reduce the incidental mortality or serious injury of bottlenose dolphins taken in the Virginia pound net fishery to below PBR.

Timetable:

Action | Date | FR Cite
NPRM | 12/00/12 |
Final Action | 04/00/13 |

Regulatory Flexibility Analysis Required: Yes.

Agency Contact: Melissa Andersen, Fishery Biologist, Management, Department of Commerce, National Oceanic and Atmospheric Administration, 1315 East-West Highway, Silver Spring, MD 20910, Phone: 301 713-2322, Fax: 301 713-2521, Email: melissa.andersen@noaa.gov.

RIN: 0648-BB37

DEPARTMENT OF COMMERCE (DOC)

National Oceanic and Atmospheric Administration (NOAA)

Final Rule Stage

National Marine Fisheries Service

204. Magnuson-Stevens Fishery Conservation and Management Reauthorization Act (MSRA) Environmental Review Procedure

Legal Authority: 16 U.S.C. 1801 et seq.

Abstract: Section 107 of the Magnuson-Stevens Fishery Conservation and Management Reauthorization Act (MSRA) (Pub. L. 109-479) requires NOAA Fisheries to revise and update agency procedures for complying with the National Environmental Policy Act (NEPA) in context of fishery management actions. It further requires that NOAA Fisheries consult with the Council on Environmental Quality (CEQ) and the Regional Fishery Management Councils (Councils), and involve the public in the development of the revised procedures. The MSRA provides that the resulting procedures will be the sole environmental impact assessment procedure for fishery management actions, and that they must conform to the timelines for review and approval of fishery management plans and plan amendments. They must also integrate applicable environmental analytical procedures, including the timeframes for public input, with the procedure for the preparation and dissemination of fishery management plans, plan amendments and other actions taken or approved pursuant to this Act in order to provide for timely, clear and concise analysis that is useful to decision makers and the public, reduce extraneous paperwork, and effectively involve the public. This rule revises and updates the NMFS procedures for complying with NEPA in the context of fishery management actions developed pursuant to MSRA.

Timetable:

Action | Date | FR Cite
NPRM | 05/14/08 | 73 FR 27998
NPRM Comment Period End | 06/13/08 |
Final Action | 04/00/13 |

Regulatory Flexibility Analysis Required: Yes.

Agency Contact: Steve Leathery, Department of Commerce, National Oceanic and Atmospheric Administration, 1315 East-West Highway, Silver Spring, MD 20910, Phone: 301 713-2239, Email: steve.leathery@noaa.gov.

RIN: 0648-AV53

205. Addendum IV to the Weakfish Interstate Management Plan—Bycatch Trip Limit

Legal Authority: 16 U.S.C. 5101

Abstract: NMFS proposes regulations that would modify management restrictions in the Federal weakfish fishery in a manner consistent with the Commission's Weakfish Management Board's (Board) approved Addendum IV to Amendment 4 to the ISFMP for Weakfish. In short, the proposed change would decrease the incidental catch allowance for weakfish in the EEZ in non-directed fisheries using smaller mesh sizes, from 150 pounds to no more than 100 pounds per day or trip, whichever is longer in duration. In addition, it would impose a one fish possession limit on recreational fishers.

Timetable:

Action | Date | FR Cite
NPRM | 05/12/10 | 75 FR 26703
NPRM Comment Period End | 06/11/10 |
NPRM Comment Period Re-opened | 06/16/10 | 75 FR 34092
Comment Period End | 06/30/10 |
Final Action | 01/00/13 |

Regulatory Flexibility Analysis Required: Yes.

Agency Contact: Alan Risenhoover, Director, Office of Sustainable Fisheries, Department of Commerce, National Oceanic and Atmospheric Administration, Room 13362, 1315 East-West Highway, Silver Spring, MD 20910 Phone: 301 713-2334, Fax: 301 713-0596, Email: alan.risenhoover@noaa.gov.

RIN: 0648-AY41

206. Atlantic Highly Migratory Species; Vessel Monitoring Systems

Legal Authority: 16 U.S.C. 1801 et seq.; 16 U.S.C. 971 et seq.

Abstract: The National Marine Fisheries Service (NMFS) will require replacement of currently required Mobile Transmitting Unit (MTU) VMS units with Enhanced Mobile Transmitting Unit (E-MTU) VMS units in Atlantic Highly Migratory Species (HMS) fisheries, implement a declaration system that requires vessels to declare target fishery and gear type(s) possessed on board, and require that a qualified marine electrician install all E-MTU VMS units. This rulemaking removes dated MTU VMS units from service in Atlantic HMS fisheries, makes Atlantic HMS VMS requirements consistent with other VMS monitored Atlantic fisheries, provides the National Oceanic and Atmospheric Administration Office of Law Enforcement (NMFS) with enhanced communication with HMS vessels at sea, and could increase the level of safety at sea for HMS fishery participants. This rule affects all HMS pelagic longline (PLL), bottom longline (BLL), and shark gillnet fishermen who are currently required to have VMS onboard their vessels.

Timetable:

Action | Date | FR Cite
NPRM | 06/21/11 | 76 FR 36071
NPRM Correction | 06/29/11 | 76 FR 38107
Notice of Additional Public Meetings | 07/01/11 | 76 FR 38598
NPRM Comment Period End | 08/01/11 |
Final Rule | 12/02/11 | 76 FR 75492
Final Action | 12/00/12 |

Regulatory Flexibility Analysis Required: Yes.

Agency Contact: Margo Schulze-Haugen, Supervisory Fish Management Officer, Department of Commerce, National Oceanic and Atmospheric Administration, 1315 East-West Highway, Silver Spring, MD 20910, Phone: 301 713-0234, Fax: 301 713-1917, Email: margo.schulze-haugen@noaa.gov.

RIN: 0648-BA64

207. Atlantic Highly Migratory Species Electronic Dealer Reporting Requirements

Legal Authority: 16 U.S.C. 1801 et seq.

Abstract: This rulemaking requires all federally-permitted Atlantic Highly Migratory Species (HMS) dealers to report commercially-caught HMS (i.e., Atlantic sharks, tunas, and swordfish) to the National Marine Fisheries Service (NMFS) through an electronic reporting system. In addition, this rulemaking clarifies that a dealer is only authorized to buy commercially-caught HMS if the dealer reports have been submitted to NMFS in a timely manner. Any delinquent reports need to be submitted and accepted before a dealer can buy commercially-caught HMS. Finally, this rulemaking requires that all commercially harvested HMS caught by federally-permitted fishermen be offloaded to federally-permitted and certified HMS dealers, who must report the associated catch to NMFS. These measures are necessary to ensure timely and accurate reporting, which is critical for quota monitoring and management of HMS.

Timetable:

Action | Date | FR Cite
NPRM | 06/28/11 | 76 FR 37750
NPRM Comment Period End | 08/12/11 |
Final Rule | 08/08/12 | 77 FR 47303
Correction | 01/00/13 |

Regulatory Flexibility Analysis Required: Yes.

Agency Contact: Margo Schulze-Haugen, Supervisory Fish Management Officer, Department of Commerce, National Oceanic and Atmospheric Administration, 1315 East-West Highway, Silver Spring, MD 20910, Phone: 301 713-0234, Fax: 301 713-1917, Email: margo.schulze-haugen@noaa.gov.

RIN: 0648-BA75

208. To Establish a Voluntary Fishing Capacity Reduction Program in the Longline Catcher Processor Subsector of the Bering Sea and Aleutian Islands Management Area Non-Pollock Groundfish Fishery

Legal Authority: 16 U.S.C. 1279; 46 U.S.C. 1279; Pub. L. 108-199; Pub. L. 108-447

Abstract: This action establishes a second fishing capacity reduction program in the longline catcher processor subsector of the Bering Sea/Aleutian Islands non-pollock groundfish fishery. The maximum reduction cost is $2,700,000, funded by a loan to be repaid by landing fees for those participants remaining in the fishery. The program makes payments for relinquishing all Federal fishing licenses and permits. Participating fishing vessels can never again fish anywhere in the world and must remain U.S. flagged. Reducing capacity will increase post-reduction harvesters' productivity, financially stabilize the fishery, and help conserve and manage non-pollock groundfish.

Timetable:

Action | Date | FR Cite
NPRM | 07/30/12 | 77 FR 44572
Final Action | 12/00/12 |

Regulatory Flexibility Analysis Required: Yes.

Agency Contact: Gary C. Reisner, Director, Office of Management and Budget, Department of Commerce, National Oceanic and Atmospheric Administration, 1315 East-West Highway, Silver Spring, MD 20910, Phone: 301 713-2259, Fax: 301 713-1464, Email: gary.reisner@noaa.gov.

RIN: 0648-BB06

209. Framework Adjustment 47 to the Northeast Multispecies Fishery Management Plan

Legal Authority: 16 U.S.C. 1801 et seq.

Abstract: Framework Adjustment 47 to the Northeast Multispecies Fishery Management Plan (FW 47) would set specifications for fishing years (FY) 2012 through 2014. FY 2012 specifications for 12 stocks last assessed in 2008 would be those previously specified in FW 44 and FW 45. No specifications for these stocks would be made for FY 2013-FY 2014. For stocks recently assessed, or assessed with an index-based assessment, specifications would be set for FY 2012-FY 2014. FW 47 would also adopt total allowable catches (TACs) for the U.S./Canada Management Area, consistent with the U.S./Canada Resource Sharing Understanding. In addition, FW 47 would revise the status determination criteria for the three winter flounder stocks and Gulf of Maine cod. FW 47 would also modify management measures for Southern New England/Mid-Atlantic winter flounder as well as modify accountability measures for five stocks. FW 47 would modify restrictions on yellowtail flounder catch by the scallop fishery in the Georges Bank (GB) access areas, modify the administration of the scallop fishery yellowtail flounder catch limits, and create a mechanism to re-estimate the expected GB yellowtail flounder catch by scallop vessels mid fishing year.

Timetable:

Action | Date | FR Cite
Proposed Rule | 03/27/12 | 77 FR 18176
Final Action | 05/02/12 | 77 FR 26104
Interim Final Rule | 06/25/12 | 77 FR 37816
Final Action | 01/00/13 |

Regulatory Flexibility Analysis Required: Yes.

Agency Contact: Daniel Morris, Acting Northeast Regional Administrator, Department of Commerce, National Oceanic and Atmospheric Administration, 55 Great Republic Drive, Gloucester, MA 01930, Phone: 978 281-9311, Email: daniel.morris@noaa.gov.

RIN: 0648-BB62

210. Gulf of Mexico Reef Fish Amendment 34: Commercial Reef Fish Permit Requirements and Crew Size on Dual-Permitted Vessels

Legal Authority: 16 U.S.C. 1801 et seq.

Abstract: The purpose for this amendment is to modify or eliminate income qualification requirements for the renewal of commercial permits and to address maximum crew size regulations for dual-permitted vessels when fishing commercially in order to consider the safety issues associated with spearfishing under the maximum crew size rule. The need for this amendment is derived from National Standards 8 and 10. Standard 8 states that, “Conservation and management measures shall, consistent with the conservation requirements of the Magnuson-Stevens Act (including the prevention of overfishing and rebuilding of overfished stocks), take into account the importance of fishery resources to fishing communities in order to: (1) Provide for the sustained participation of such communities.” Standard 10 states that, “Conservation and management measures shall, to the extent practicable, promote the safety of human life at sea. Fishing is an inherently dangerous occupation where not all hazardous situations can be foreseen or avoided. The standard directs Councils to reduce that risk in crafting their management measures, so long as they can meet the other national standards and the legal and practical requirements of conservation and management.”

Timetable:

Action | Date | FR Cite
Notice of Availability | 07/10/12 | 77 FR 40561
NPRM | 07/18/12 | 77 FR 42251
Final Action | 12/00/12 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BB72

211. 2012 Gulf of Mexico Gray Triggerfish Annual Catch Limits and Annual Catch Targets for the Commercial and Recreational Sectors; and In-Season Accountability Measures for the Recreational Sector

Legal Authority: 16 U.S.C. 1801

Abstract: At their February 2012 meeting, the Gulf of Mexico Fishery Management Council (Council) requested NOAA Fisheries Service implement an interim rule under procedures of the Magnuson-Stevens Act. The Gulf of Mexico gray triggerfish stock was determined to be overfished and undergoing overfishing based on the results of the 2011 update stock assessment. In addition, the assessment indicated the stock was not recovering at a level consistent with the stock rebuilding plan. The Council is currently developing Amendment 37 to the Fishery Management Plan for the Reef Fish Resources of the Gulf of Mexico to address these issues. However, management measures proposed in this amendment will not be ready for implementation in the near future. The interim rule sets the commercial and recreational annual catch limits and annual catch targets to reduce overfishing and would establish an in-season accountability measure to close the recreational sector when the annual catch target is projected to be caught.

Timetable:

Action | Date | FR Cite
Final Rule | 05/14/12 | 77 FR 28308
Final Action | 12/00/12 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BB90

212. Amendment 35 to the Reef Fish Fishery Management Plan Addressing Changes to the Greater Amberjack Rebuilding Plan and Adjustments to the Stock Annual Catch Limit in the Gulf of Mexico

Legal Authority: 16 U.S.C. 1801 et seq.

Abstract: The purpose of this amendment is to adjust the greater amberjack rebuilding plan in response to results from the 2011 Update Assessment and subsequent Scientific and Statistical Committee review and recommendations for acceptable biological catch (ABC). Following review of the 2011 Update Assessment the Scientific and Statistical Committee recommended an ABC of 1,780,000 pounds whole weight (ww). The need for this amendment is that the current Stock ACL (equivalent to the total allowable catch (TAC)) of 1,871,000 pounds ww established in Amendment 30A exceeds the ABC recommendation. Further rationale for the need of this amendment is based on a section 600.310(g)(3) of the National Standard 1 annual catch limit (ACL) and accountability measure (AM) guidelines (NS1) which states, “If catch exceeds the ACL for a given stock or stock complex more than once in the last four years, the system of ACLs and AMs should be re-evaluated, and modified if necessary, to improve its performance and effectiveness.” The greater amberjack Stock ACL has been exceeded twice in the last three years; therefore, this document includes a range of draft alternatives for adjusting the Stock ACL (equivalent to TAC), as well as subsequent recreational and commercial management measures to improve effectiveness of the Stock ACL and benefits to the greater amberjack stock in the Gulf of Mexico.

Timetable:

Action | Date | FR Cite
Notice of Availability | 07/03/12 | 77 FR 39460
NPRM | 07/19/12 | 77 FR 42476
Final Action | 12/00/12

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BB97

213. Framework Adjustment 6 to the Atlantic Mackerel, Squid and Butterfish Fishery Management Plan

Legal Authority: 16 U.S.C. 1801 et seq.

Abstract: This framework adjustment clarifies the Mid-Atlantic Fishery Management Councils (Council) risk policy, which is used by the Scientific and Statistical Committee (SSC) in conjunction with acceptable biological catch (ABC) control rules. The risk policy ensures that the Council's preferred tolerance for risk of overfishing (40 percent or lower) is addressed in the ABC development and recommendation process. The regulations that implement the Council's risk policy went into effect on October 31, 2011, as part of the Council's Omnibus Amendment to implement annual catch limits and accountability measures. One component of the risk policy states that, “If an overfishing limit (OFL) cannot be determined from the stock assessment, or if a proxy is not provided by the SSC during the ABC recommendation process, ABC levels may not be increased until such time that an OFL has been identified.” This was designed to prevent catch levels from being increased when there are no criteria available to determine if overfishing will occur in the upcoming fishing year. Following one of the first applications of the risk policy for the 2012 fishing year (2012 butterfish specifications), the Council found that there are limited circumstances in which the SSC may have the scientific justification for recommending that the ABC be increased for stocks without an OFL without resulting in an unacceptably high risk of overfishing. This framework alters the risk policy by outlining the specific circumstances under which the SSC may recommend an ABC increase in the absence of an OFL.

Timetable:

Action | Date | FR Cite
NPRM | 06/28/12 | 77 FR 38566
Final Action | 12/00/12

Regulatory Flexibility Analysis Required: Yes.

Agency Contact: Aja Szumylo, Department of Commerce, National Oceanic and Atmospheric Administration, 55 Great Republic Drive, Gloucester, MA 01930, Phone: 978 281-9195, Email: aja.szumylo@noaa.gov.

RIN: 0648-BB99

214. • Georges Bank Yellowtail Flounder Emergency Action To Provide a Partial Exemption From Accountability Measures to the Atlantic Scallop Fishery

Legal Authority: 16 U.S.C. 1801 et seq.

Abstract: This action, requested by the New England Fishery Management Council, exempts the Atlantic sea scallop fishery from any accountability measure specified by the fishery management plan for catch of Georges Bank yellowtail flounder exceeding the revised sub-annual catch limit (ACL) of 156.9 mt up to the initial sub-ACL level of 307.5 mt. The emergency rule is needed to respond to an unanticipated situation. The scallop Georges Bank yellowtail flounder sub-ACL was adjusted downward based on a projection of catch which indicated the scallop fleet would take much less than 307.5 mt. This revision process is outlined in regulation and may be performed at any time in the fishing year; however, such an adjustment is typically contemplated late in the fishing year when a large amount of yellowtail flounder catch in the scallop fishery data is available. The revision occurred earlier in the fishing year than anticipated by the scallop fleet in an effort to provide an immediate, greater harvest opportunity to the groundfish fishery. This revision modified the scallop sub-ACL by 49 percent and as a result, scallop fishing practices may require substantive change to ensure the sub-ACL is not exceeded. If accountability is maintained at the adjusted, lower sub-ACL there is a higher likelihood that a Georges Bank yellowtail flounder overage by the scallop fleet could occur resulting in accountability measures with substantial implications for the upcoming 2013 scallop fishing year. By exempting the scallop fleet from accountability measures at the lower, revised 156.9 mt sub-ACL but maintaining accountability at the 307.5 mt level initially set for the fishing year, there remains a need for the scallop fleet to mitigate yellowtail flounder catch but to do so within the context of the initial level established for the fishing year. There is also accountability at the fishery level that remains unchanged by this action.

Timetable:

Action | Date | FR Cite
NPRM | 10/01/12 | 77 FR 59883
NPRM Comment Period End | 10/31/12
Final Action | 02/00/13

Regulatory Flexibility Analysis Required: Yes.

Agency Contact: Michael Ruccio, Department of Commerce, National Oceanic and Atmospheric Administration, 55 Great Republic Drive, Gloucester, MA 01930, Phone: 978 281-9104, Email: michael.ruccio@noaa.gov.

RIN: 0648-BC33

215. • Interim Final Rule for 2012 Butterfish Specifications

Legal Authority: 16 U.S.C. 1801 et seq.

Abstract: The Mid-Atlantic Fishery Management Council (Council) met on September 14, 2012, in response to public comments that the current 2012 acceptable biological catch (ABC) for butterfish (3,622 mt) is too conservative, and that the butterfish mortality cap on the longfin squid fishery derived from this ABC may close the longfin squid fishery. There has been anecdotal evidence of unusually high longfin squid abundance this fishing year, and the Council is concerned that closing the longfin squid fishery early would result in economic harm due to forgone harvest. The Council requested that its Scientific and Statistical Committee (SSC) reconsider its 2012 butterfish ABC recommendation in light of its higher (8,400 mt) butterfish ABC recommendation for 2013. The SSC revised their 2012 butterfish ABC recommendation to 4,200 mt and noted that the additional mortality at the end of the 2012 fishing year should not result in overfishing of the butterfish resource. Accordingly, the Council recommended an increase of the butterfish ABC to 4,200 mt for the remainder of the 2012 fishing year, a decrease of the butterfish quota to 872 mt, and an increase of the butterfish mortality cap to 3,165 mt. NMFS will implement this action through an interim final rule, with publication as soon as possible.

Timetable:

Action | Date | FR Cite
Interim Final Rule | 12/00/12

Regulatory Flexibility Analysis Required: Yes.

Agency Contact: Aja Szumylo, Department of Commerce, National Oceanic and Atmospheric Administration, 55 Great Republic Drive, Gloucester, MA 01930, Phone: 978 281-9195, Email: aja.szumylo@noaa.gov.

RIN: 0648-BC57

216. • Emergency Rule for a Temporary Action To Adjust the Commercial ACL for Yellowtail Snapper in the South Atlantic Snapper-Grouper Fishery

Legal Authority: Magnuson Stevens Act

Abstract: This temporary rule for an emergency action would adjust the commercial ACL for yellowtail snapper according to a new stock assessment recently completed by the State of Florida. This rule would allow snapper-grouper fishermen in the South Atlantic to continue to harvest yellowtail snapper until the new ACL has been met.

Timetable:

Action | Date | FR Cite
Interim Final Rule | 12/00/12

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BC59

217. • Emergency Rule To Set the 2012 Annual Catch Limit for the Gulf of Mexico Vermilion Snapper Stock

Legal Authority: 16 U.S.C. 1801 et seq.

Abstract: The current vermilion snapper annual catch limit (ACL) is 3.42 million pounds (mp). A 2011 stock assessment indicates vermilion snapper are not overfished or undergoing overfishing. Based on the assessment, the Gulf of Mexico Fishery Management Council's (Council) Scientific and Statistical Committee (SSC) has recommended an acceptable biological catch level much higher than the current ACL (> 1 mp). The Gulf of Mexico Fishery Management Council (Council) requested NOAA Fisheries Service to promulgate an emergency rule to increase the vermilion snapper ACL. Landing projections for 2012 indicate the current ACL may be caught before the end of the 2012 fishing year (December 31). If the ACL is met, accountability measures would close vermilion snapper fishing for the remainder of the 2012 fishing year. Therefore, the Council asked for an emergency rule to increase the ACL to 4.19 mp. This new limit is consistent with the management advice from the Council's SSC.

Timetable:

Action | Date | FR Cite
Final Action—Emergency Rule | 12/00/12

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BC65

218. False Killer Whale Take Reduction Plan (Section 610 Review)

Legal Authority: 16 U.S.C. 1361 et seq.

Abstract: NMFS is undertaking rulemaking to implement a False Killer Whale Take Reduction Plan (FKWTRP). The FKWTRP is based on consensus recommendations submitted by the False Killer Whale Take Reduction Team (FKWTRT). This action is necessary because current serious injury and mortality rates of the Hawaii Pelagic stock of false killer whales incidental to the Category I Hawaii-based deep-set (tuna target) longline fishery and Category II Hawaii-based shallow-set (swordfish target) fishery are above the stock's potential biological removal (PBR) level, and therefore inconsistent with the short-term goal of the Marine Mammal Protection Act (MMPA). Additionally, serious injury and mortality rates of the Hawaii Insular stock and Palmyra Atoll stocks of false killer whales incidental to the Hawaii-based deep-set longline fishery are above insignificant levels approaching a zero mortality and serious injury rate, and therefore inconsistent with the long-term goal of the MMPA. The FKWTRP is intended to meet the statutory mandates and requirements of the MMPA through both regulatory and non-regulatory measures, and research and data collection priorities.

Timetable:

Action | Date | FR Cite
NPRM | 07/18/11 | 76 FR 42082
NPRM Comment Period Ends | 10/17/11
Final Action | 12/00/12

Regulatory Flexibility Analysis Required: Yes.

Agency Contact: Helen Golde, Department of Commerce, National Oceanic and Atmospheric Administration, Marine Sanctuaries Division, 1305 East-West Highway, Silver Spring, MD 20910, Phone: 301 427-8400, Email: helen.golde@noaa.gov.

RIN: 0648-BA30

219. Revision of Hawaiian Monk Seal Critical Habitat

Legal Authority: 16 U.S.C. 1533

Abstract: On July 9, 2008, NMFS received a petition from the Center for Biological Diversity, Kahea, and the Ocean Conservancy to revise the Hawaiian monk seal critical habitat designation by adding the following areas in the main Hawaiian Islands (MHI): key beach areas, sand spits and islets, including all beach crest vegetation to its deepest extent inland, lagoon waters, inner reef waters, and ocean waters out to a depth of 200 m. In addition, the Petitioners requested that designated critical habitat in the NWHI be extended to include Sand Island at Midway, as well as ocean waters out to a depth of 500 meters. On October 3, 2008, NMFS announced in the 90-day finding that the petition presented substantial scientific information indicating that a revision to the current critical habitat designation may be warranted. On June 12, 2009, in the 12-month finding, NMFS announced that a revision to critical habitat is warranted, on account of new information available regarding habitat use by the Hawaiian monk seal, and announced our intention to proceed towards a proposed rule. This rule describes the critical habitat designation, including supporting information on Hawaiian monk seal biology, distribution, and habitat use, and the methods used to develop the proposed revision to Hawaiian monk seal critical habitat.

Timetable:

Action | Date | FR Cite
NPRM | 06/02/11 | 76 FR 32026
Notice of Public Meetings | 07/14/11 | 76 FR 41446
Other | 06/25/12 | 77 FR 37867
Final Action | 12/00/12

Regulatory Flexibility Analysis Required: Yes.

Agency Contact: Dwayne Meadows, Department of Commerce, National Oceanic and Atmospheric Administration, 1315 East-West Highway, Silver Spring, MD 20910, Phone: 301 427-8467, Email: dwayne.meadows@noaa.gov.

RIN: 0648-BA81

220. Mandatory Use of Turtle Excluder Devices (TEDs) in Skimmer Trawls, Pusher-Head Trawls, and Wing Nets (Butterfly Trawls)

Legal Authority: 16 U.S.C. 1533

Abstract: NMFS is proposing to withdraw the alternative tow time restriction at 50 CFR 223.206(d)(2)(ii)(A)(3), and require all skimmer trawls, pusher-head trawls, and wing nets (butterfly trawls) rigged for fishing to use turtle excluder devices (TEDs) in their nets.

Timetable:

Action | Date | FR Cite
NPRM | 05/10/12 | 77 FR 27411
Proposed Rule Correction | 05/18/12 | 77 FR 29586
Miami Public Hearing | 06/22/12 | 77 FR 37647
Port Orange Public Hearing | 06/27/12 | 77 FR 38266
Final Action | 02/00/13

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BC10

DEPARTMENT OF COMMERCE (DOC)

National Oceanic and Atmospheric Administration (NOAA)

Long-Term Actions

National Marine Fisheries Service

221. Marine Mammal Protection Act Stranding Regulation Revisions

Legal Authority: 16 U.S.C. 1379; 16 U.S.C. 1382; 16 U.S.C. 1421

Abstract: The National Marine Fisheries Service (NMFS) is considering changes to its implementing regulations (50 CFR 216) governing the taking of stranded marine mammals under section 109(h), section 112(c), and title IV of the Marine Mammal Protection Act and is soliciting public comment to better inform the process. NMFS intends to clarify the requirements and procedures for responding to stranded marine mammals and for determining the disposition of rehabilitated marine mammals, which includes the procedures for the placement of non-releasable animals and for authorizing the retention of releasable rehabilitated marine mammals for scientific research, enhancement, or public display. This action will be analyzed under the National Environmental Policy Act with an Environmental Assessment.

Timetable:

Action | Date | FR Cite
ANPRM | 01/31/08 | 73 FR 5786
ANPRM | 01/31/08 | 73 FR 5786
ANPRM Comment Period Extended | 03/28/08 | 73 FR 16617
NPRM | 12/00/13

Regulatory Flexibility Analysis Required: Yes.

Agency Contact: Helen Golde, Phone: 301 427-8400, Email: helen.golde@noaa.gov.

RIN: 0648-AW22

222. Amendment 6 to the Monkfish Fishery Management Plan

Legal Authority: 16 U.S.C. 1801 et seq.

Abstract: The purpose of Amendment 6 to the Monkfish FMP is to consider developing a catch share management program for this fishery. This would very likely also involve the development of a referendum for such a program, as required under the Magnuson-Stevens Fishery Conservation and Management Act.

Timetable:

Action | Date | FR Cite
Notice of Intent to Prepare an EIS | 11/30/10 | 75 FR 74005
NPRM | 01/00/14

Regulatory Flexibility Analysis Required: Yes.

Agency Contact: Patricia A. Kurkul, Phone: 978 281-9200, Fax: 978 281-9117, Email: pat.kurkul@noaa.gov.

RIN: 0648-BA50

223. • Development of Island-Specific Fishery Management Plans (FMPs) in the Caribbean: Transition From Species-Specific FMPs to Island-Specific FMPs

Legal Authority: 16 U.S.C. 1801 et seq.

Abstract: NOAA Fisheries and the Caribbean Fishery Management Council will develop island-specific FMPs to account for differences among the U.S. Caribbean Islands of Puerto Rico and the U.S. Virgin Islands with respect to culture, markets, gear, and seafood preferences. The development of these customized FMPs will recognize the unique attributes of each of the U.S. Caribbean Islands.

Timetable:

Action | Date | FR Cite
NPRM | 06/00/14

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BC17

DEPARTMENT OF COMMERCE (DOC)

National Oceanic and Atmospheric Administration (NOAA)

Completed Actions

224. Allowable Modifications to the Turtle Excluder Device Requirements

Legal Authority: 16 U.S.C. 1531 et seq.

Abstract: NMFS revises the Turtle Excluder Device (TED) requirements to allow new materials and modifications to existing approved TED designs. Specifically, allowable modifications include the use of flat bar, box pipe, and oval pipe for use in currently-approved TED grids; an increase in mesh size on escape flaps from 1⅝ inches to 2 inches; the use of the Boone single straight cut and triangular escape openings; specifications on the use of TED grid brace bars; and the use of the Chauvin Shrimp Kicker to improve shrimp retention.

Timetable:

Action | Date | FR Cite
NPRM | 09/02/10 | 75 FR 53925
NPRM Comment Period End | 10/18/10
NPRM | 03/16/12 | 77 FR 15701
Final Action | 05/21/12 | 77 FR 29905
Final Action | 08/13/12 | 77 FR 48106

Regulatory Flexibility Analysis Required: Yes.

Agency Contact: Helen Golde, Department of Commerce, National Oceanic and Atmospheric Administration, Marine Sanctuaries Division, 1305 East-West Highway, Silver Spring, MD 20910, Phone: 301 427-8400, Email: helen.golde@noaa.gov.

RIN: 0648-AW93

225. Revoke Inactive Quota Share and Annual Individual Fishing Quota From a Holder of Quota Share Under the Pacific Halibut and Sablefish Fixed Gear Individual Fishing Quota Program

Legal Authority: 16 U.S.C. 1801 et seq.; 16 U.S.C. 773

Abstract: This action amends existing commercial fishing regulations for the fixed-gear Pacific Halibut and sablefish individual fishing quota program at 50 CFR 679. The amendment revokes inactive quota share unless the quota share permit holder affirmatively notices NMFS in writing within 60 days of the agency's preliminary determination of inactivity that they choose to (a) Retain the inactive IFQ quota share, (b) activate the quota share through transfer or by fishing, or (c) appeal the preliminary determination. Quota share that is not activated through this process and is revoked would be proportionally distributed to the quota share pool. This regulatory revision is based on the recommendations of the North Pacific Fishery Management Council in June 2006 and again in February 2009. Amending the regulations will improve the efficiency of the Pacific Halibut and Sablefish IFQ program and augment operational flexibility of participating fisherman.

Timetable:

Action | Date | FR Cite
NPRM | 08/23/10 | 75 FR 51741
Final Action | 05/18/12 | 77 FR 29556
Final Action Effective | 06/18/12

Regulatory Flexibility Analysis Required: Yes.

Agency Contact: Robert D. Mecum, Deputy Acting Administrator, Department of Commerce, National Oceanic and Atmospheric Administration, Room 420, 709 West Ninth Street, Juneau, AK 99802, Phone: 907 586-7221, Fax: 907 586-7249, Email: robert.mecum@noaa.gov.

RIN: 0648-AX91

226. Generic Amendment for Annual Catch Limits

Legal Authority: 16 U.S.C. 1801.

Abstract: The generic amendment modifies five of the Gulf of Mexico Fishery Management Council's Fishery Management Plans (FMPs). These include FMPs for Reef Fish Resources, Shrimp, Stone Crab, Coral and Coral Reef Resources, and Red Drum. NMFS and the Council developed these Annual Catch Limits (ACLs) in co-operation with the Scientific and Statistical Committee and the Southeast Fisheries Science Center. NMFS, in collaboration with the Council, also developed a Draft Environmental Impact Statement to evaluate alternatives and actions for the ACLs. Some examples of these actions include: establishing sector specific ACLs, selecting levels of risk associated with species yields, considering removal or withdrawal of species from FMPs, and delegating species or species assemblages to state regulators.

Timetable:

Action | Date | FR Cite
Notice of Intent | 08/04/09 | 74 FR 47206
Notice of Availability | 09/26/11 | 76 FR 59373
NPRM | 10/25/11 | 76 FR 66021
Final Rule | 12/29/11 | 76 FR 82044
Final Action—Final Rule Correction | 04/20/12 | 77 FR 23632

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-AY22

227. Comprehensive Annual Catch Limits Amendment to the Fishery Management Plan for the Snapper Grouper Fishery of the South Atlantic Region

Legal Authority: 16 U.S.C. 1801 et seq.

Abstract: This amendment establishes Annual Catch Limits (ACLs) and Accountability Measures (AMs) for species not undergoing overfishing, including management measures to reduce the probability that catches will exceed the stocks' ACLs pursuant to reauthorized Magnuson-Stevens Fishery Conservation and Management Act (Magnuson-Stevens Act) requirements. Actions include removal of species from the South Atlantic Snapper Grouper Fishery Management Unit; designating some Snapper Grouper species as ecosystem component species; considering multi-species groupings for specifying ACLs, ACTs, and AMs; specifying allocations among the commercial, recreational, and for-hire sectors for species not undergoing overfishing; and modifying management measures to limit total mortality to the ACL.

Timetable:

Action | Date | FR Cite
Notice of Availability | 10/20/11 | 76 FR 65153
NPRM | 12/01/11 | 76 FR 74757
Amended Proposed Rule | 12/30/11 | 76 FR 82664
Final Rule | 03/16/12 | 77 FR 15916
Final Rule Effective | 04/16/12 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-AY73

228. Amendment 20A to the Snapper Grouper Fishery Management Plan of the South Atlantic Region

Legal Authority: 16 U.S.C. 1801 et seq.

Abstract: Amendment 20A to the Fishery Management Plan for the Snapper Grouper Fishery of the South Atlantic Region consists of regulatory actions that focus on modifications to the wreckfish individual transferable quota (ITQ) program. The proposed actions would: (1) Define and revert inactive wreckfish shares; (2) redistribute reverted shares to active shareholders; (3) define a cap on the number of shares one entity may own; and (4) establish an appeals process for share redistribution.

Timetable:

Action | Date | FR Cite
Notice of Availability | 01/12/12 | 77 FR 1908
NPRM | 03/30/12 | 77 FR 19165
NPRM Comment Period End | 04/30/12 |
Final Action | 09/26/12 | 77 FR 59129
Final Action Effective | 10/26/12 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-AY74

229. Amendment 24 to the Fishery Management Plan for the Snapper Grouper Fishery of the South Atlantic Region

Legal Authority: 16 U.S.C. 1801 et seq.

Abstract: The purpose of the amendment is to implement a rebuilding plan for red grouper in the South Atlantic that would specify annual catch targets and annual catch limits by sector. NMFS notified the Council of the stock status on June 9, 2010; the Magnuson-Stevens Act specifies that measures must be implemented within two years of notification.

Timetable:

Action | Date | FR Cite
Notice of Intent | 01/03/11 | 76 FR 99
Notice of Intent Comment Period End | 02/14/11 |
NPRM | 03/30/12 | 77 FR 19169
NPRM Comment Period End | 04/30/12 |
Final Action | 06/11/12 | 77 FR 34254
Final Action Effective | 07/11/12 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BA52

230. Regulatory Amendment 11 to the Fishery Management Plan for the Snapper Grouper Fishery of the South Atlantic Region

Legal Authority: 16 U.S.C. 1801

Abstract: The purpose of the amendment is to modify regulations pertaining to the deepwater species in order to reduce the socio-economic effects expected from the regulations in amendment 17B to the Snapper-Grouper FMP while maintaining or increasing the biological protection to speckled hind and warsaw grouper in the South Atlantic.

Timetable:

Action | Date | FR Cite
NPRM | 12/20/11 | 76 FR 78879
NPRM Comment Period End | 01/19/12 |
Final Action | 05/10/12 | 77 FR 27374

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BB10

231. Amendment 93 To Implement Chinook Salmon Prohibited Species Catch Limits in the Gulf of Alaska Pollock Fishery

Legal Authority: 118 Stat 110; 16 U.S.C. 1801 et seq.; 16 U.S.C. 3631 et seq.; 16 U.S.C. 773 et seq.; Pub. L. 108-199

Abstract: This action limits Chinook salmon prohibited species catch (PSC) and increases monitoring in the Gulf of Alaska (GOA) pollock fishery. A 25,000 lb Chinook salmon PSC annual limit is apportioned between the GOA Central and Western Regulatory Areas, with a 18,316 lb Chinook salmon PSC limit in the Central Regulatory Area and a 6,684 lb Chinook salmon PSC limit in the Western Regulatory Area. If the PSC limit is reached in a regulatory area that pollock fishery would be close. To provide better information on the quantity and source of salmon incidentally caught in the pollock fishery, this action also would increases observer coverage on vessels less than sixty feet in length overall and require full of salmon.

Timetable:

Action | Date | FR Cite
Notice of Availability | 11/23/11 | 76 FR 72384
NPRM | 12/14/11 | 76 FR 77757
NPRM Comment Period End | 01/30/12 |
Final Rule | 07/20/12 | 77 FR 42629

Regulatory Flexibility Analysis Required: Yes.

Agency Contact: James Balsiger, Administrator, Alaska Region, Department of Commerce, National Oceanic and Atmospheric Administration, 709 West Ninth Street, Juneau, AK 99801, Phone: 907 586-7221, Fax: 907 586-7465, Email: jim.balsiger@noaa.gov.

RIN: 0648-BB24

232. Implementation of Comprehensive Ecosystem Based Amendment 2

Legal Authority: 16 U.S.C. 1801 et seq.

Abstract: This Comprehensive Ecosystem-Based Amendment 2 specifies the annual catch limit (ACL) for octocorals in the South Atlantic region. The South Atlantic Council is modifying the fishery management unit (FMU) for octocorals under the Fishery Management Plan for Coral, Coral Reefs, Live/Hardbottom Habitats of the South Atlantic Region (Coral FMP) to specify that octocorals are included in the exclusive economic zone off of North Carolina, South Carolina, and Georgia. As a result of reducing the management unit for octocorals, the South Atlantic Council is also considering an action to set the ACL at zero. CE-BA 2 amends the Snapper Grouper FMP and FMP for the Coastal Migratory Pelagic Resources in the Atlantic and Gulf of Mexico to require that harvest (with the use of all non-prohibited fishing gear) and possession of snapper grouper and coastal migratory pelagic managed species in South Carolina SMZs be limited to the recreational bag limit. An action to modify sea turtle and smalltooth sawfish release gear requirements for the snapper grouper fishery is also included in CE-BA 2. This action amends the Council FMPs as needed to designate new or modify existing EFH and EFH-HAPCs.

Timetable:

Action | Date | FR Cite
Notice of Availability | 09/26/11 | 76 FR 59371
NPRM | 11/08/11 | 76 FR 69230
Final Rule | 12/30/11 | 76 FR 82183
Final Rule Correction | 01/30/12 | 77 FR 4495
Final Action Effective | 01/30/12 |
Final Action; Correction | 05/18/12 | 77 FR 29555

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BB26

233. Emergency Rule To Increase the 2011 Catch Limits for the Northeast Skate Complex

Legal Authority: 16 U.S.C. 1801 et seq.

Abstract: The temporary emergency rule increases the skate complex acceptable biological catch (ABC), annual catch limit (ACL), annual catch target (ACT), and annual total allowable landings (TALs) consistent with best available scientific information, and the procedures contained in the Northeast Skate Complex Fishery Management Plan. The Council requested the emergency action after receiving a new recommendation for ABC from the Scientific and Statistical Committee in June 2011. The action is needed to extend the fishing season for the directed skate fisheries, and help avoid the economic impacts of a potential fishery closure before the end of the fishing year.

Timetable:

Action | Date | FR Cite
NPRM | 08/30/11 | 76 FR 53872
NPRM Comment Period End | 09/14/11 |
Temporary Rule | 10/28/11 | 76 FR 66856

Regulatory Flexibility Analysis Required: Yes.

Agency Contact: Patricia A. Kurkul, Regional Administrator, Northeast Region, NMFS, Department of Commerce, National Oceanic and Atmospheric Administration, 55 Great Republic Way, Gloucester, MA 01930, Phone: 978 281-9200, Fax: 978 281-9117, Email: pat.kurkul@noaa.gov.

RIN: 0648-BB32

234. Rule To Delay the Effective Date of Atlantic Smoothhound Management Measures

Legal Authority: 16 U.S.C. 1801

Abstract: NMFS is delaying the effective date of smoothhound management measures implemented in the Final Rule for Amendment 3 to the 2006 Consolidated Highly Migratory Species (HMS) Fishery Management Plan (FMP)(June 1, 2010). This action is necessary to ensure recent legislation, namely the 2010 Shark Conservation Act, is fully considered and to allow time for a section 7 consultation under the Endangered Species Act (ESA) to be completed. NMFS expects that the smoothhound management measures will become effective upon the effective date of the rule implementing the Shark Conservation Act smooth dogfish measures or following completion of the section 7 Biological Opinion, whichever is later.

Timetable:

Action | Date | FR Cite
Final Action | 11/10/11 | 76 FR 70064
Final Action Effective | 12/12/11 |

Regulatory Flexibility Analysis Required: Yes.

Agency Contact: Margo Schulze-Haugen, Supervisory Fish Management Officer, Department of Commerce, National Oceanic and Atmospheric Administration, 1315 East-West Highway, Silver Spring, MD 20910, Phone: 301 713-0234, Fax: 301 713-1917, Email: margo.schulze-haugen@noaa.gov.

RIN: 0648-BB43

235. Amendment 11 to the Fishery Management Plan for Spiny Lobster in the Gulf of Mexico and South Atlantic

Legal Authority: 16 U.S.C. 1801 et seq.

Abstract: The Supplemental Environmental Impact Statement analyzes the impacts of a range of alternatives for two potential management actions for the spiny lobster fishery, including establishment of trap line marking requirements and closed areas to protect Acropora coral species. These actions were originally included in Amendment 10 to the FMP; however, the Councils chose to take no action at that time to allow for additional stakeholder input.

Timetable:

Action | Date | FR Cite
Notice of Intent | 09/19/11 | 76 FR 57957
Notice of Availability | 04/27/12 | 77 FR 25116
NPRM | 05/15/12 | 77 FR 28560
Final Action | 07/27/12 | 77 FR 44168

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BB44

236. Framework Adjustment 23 to the Atlantic Sea Scallop Fishery Management Plan

Legal Authority: 16 U.S.C. 1801

Abstract: The purpose of Framework 23 is to address four specific issues identified by the public and the Council to improve the overall effectiveness of the Scallop FMP. The need is to develop measures to minimize impacts on sea turtles through the requirement of a turtle deflector dredge; improve the effectiveness of the accountability measures adopted under Scallop Amendment 15 for the yellowtail flounder sub annual catch limit; consider specific changes to the general category Northern Gulf of Maine management program to address potential inconsistencies, and to consider modifications to the vessel monitoring system to improve fleet operations.

Timetable:

Action | Date | FR Cite
Proposed Rule | 01/03/12 | 77 FR 52
Final Action | 04/06/12 | 77 FR 20728
Final Action Effective | 05/07/12 |

Regulatory Flexibility Analysis Required: Yes.

Agency Contact: Patricia A. Kurkul, Regional Administrator, Northeast Region, NMFS, Department of Commerce, National Oceanic and Atmospheric Administration, 55 Great Republic Way, Gloucester, MA 01930, Phone: 978 281-9200, Fax: 978 281-9117, Email: pat.kurkul@noaa.gov.

RIN: 0648-BB51

237. 2012 Pacific Halibut Fisheries; Catch Sharing Plan

Legal Authority: 16 U.S.C. 773 et seq.

Abstract: Each year, the Pacific Fishery Management Council (Council) reviews and receives public comment on its Pacific Halibut Catch Sharing Plan (Plan) to determine whether revisions are needed to achieve management objectives for any of the West Coast halibut fisheries. Washington treaty tribes that fish for halibut hold a directed commercial fishery and a ceremonial and subsistence fishery off the Washington coast. Non-treaty fishers operating off the coasts of Washington, Oregon, and California participate in one of three separate commercial fisheries, and/or in one or more of the six separate recreational fisheries for halibut. For 2012 and beyond, the Council has recommended minor changes to the portion of the Plan covering the sport fisheries for the Washington South Coast Area, the Columbia River subarea and the Oregon Central Coast Subarea. The changes to Washington South coast subarea include a slight modification in the opening day, the changes to the Columbia River subarea include an adjustment to the state contributions to the subarea allocation, and finally the changes to the Oregon Central Coast subarea include revisions to the allocation to the nearshore portion of this subarea and an adjustment to how quota may be moved inseason between the spring, summer, and nearshore fisheries within this subarea. These recommended changes to the Plan are implemented through the annual regulations. The annual regulations also include the 2012 halibut quota for the West Coast fisheries as recommended by the International Pacific Halibut Commission.

Timetable:

Action | Date | FR Cite
NPRM | 02/03/12 | 77 FR 5473
Final Action | 03/22/12 | 77 FR 16740

Regulatory Flexibility Analysis Required: Yes.

Agency Contact: Frank Lockhart, Program Analyst, Department of Commerce, National Oceanic and Atmospheric Administration, 7600 Sand Point Way NE., Seattle, WA 98115, Phone: 206 526-6142, Fax: 206 526-6736, Email: frank.lockhart@noaa.gov.

RIN: 0648-BB68

238. 2012-2013 Specifications for the Northeast Skate Complex

Legal Authority: 16 U.S.C. 1801 et seq.

Abstract: This action specifies for the Northeast Skate Complex fishery an annual catch limit (ACL), annual catch target, total allowable landings, and possession limits for the 2012-2013 fishing years. It also makes minor modifications to overfishing definitions and fishery monitoring. These measures are based upon the recommendations of the New England Fishery Management Council, reflecting the best available scientific information on the status of the skate stocks. Recent increases in the biomass of winter and little skates support increases in catch limits and quotas. The ACL (50,435 mt) represents a 23-percent increase from 2010 levels (41,080 mt). The measures are largely consistent with the skate catch levels implemented by Secretarial emergency action during the 2011 fishing year. Maintaining the catch limits at these higher levels is expected to continue positive economic impacts for the fishery, while simultaneously meeting the conservation objectives of the Northeast Skate Complex Fishery Management Plan.

Timetable:

Action | Date | FR Cite
NPRM | 02/22/12 | 77 FR 10643
NPRM Comment Period End | 03/23/12 |
Final Action | 04/27/12 | 77 FR 25097
Final Action Effective | 05/01/12 |

Regulatory Flexibility Analysis Required: Yes.

Agency Contact: Daniel Morris, Acting Northeast Regional Administrator, Department of Commerce, National Oceanic and Atmospheric Administration, 55 Great Republic Drive, Gloucester, MA 01930, Phone: 978 281-9311, Email: daniel.morris@noaa.gov.

RIN: 0648-BB83

239. 2012 Tribal Fishery for Pacific Whiting

Legal Authority: 16 U.S.C. 1801 et seq.; 16 U.S.C. 773 et seq.

Abstract: NMFS issues this rule for the 2012 Pacific whiting fishery under the authority of the Pacific Coast Groundfish Fishery Management Plan (FMP), the Magnuson Stevens Fishery Conservation and Management Act (Magnuson-Stevens Act), and the Pacific Whiting Act of 2006. This rule establishes a tribal allocation of 17.5 percent of the U.S. total allowable catch (TAC) for 2012. The regulations also establish a process for reapportionment of unused tribal allocation of Pacific whiting to the non-tribal fisheries.

Timetable:

Action | Date | FR Cite
NPRM | 02/22/12 | 77 FR 10466
NPRM Comment Period End | 03/23/12 |
Final Action | 05/15/12 | 77 FR 28497

Regulatory Flexibility Analysis Required: Yes.

Agency Contact: Frank Lockhart, Program Analyst, Department of Commerce, National Oceanic and Atmospheric Administration, 7600 Sand Point Way NE., Seattle, WA 98115, Phone: 206 526-6142, Fax: 206 526-6736, Email: frank.lockhart@noaa.gov.

RIN: 0648-BB85

240. Regulatory Amendment To Revise Fall Recreational Closed Season and Set Annual Catch Limit for Red Snapper

Legal Authority: 16 U.S.C. 1801

Abstract: The actions in this amendment revise the fixed recreational red snapper closed season of October 1-December 31, and set the 2012 and 2013 annual catch limit (ACL) for the red snapper fishery in the Gulf of Mexico. The previous regulations limit the ability to achieve optimum yield for the recreational sector due to restrictive season timing and fixed closure dates which limit the ability to reopen the recreational season through normal rulemaking. This regulation gives the National Marine Fisheries Service (NMFS) and the Gulf of Mexico Fishery Management Council (Council) more flexibility to manage the red snapper recreational fishing season. Providing management mechanisms with more flexibility would increase the likelihood of achieving optimum yield and, in turn, benefit the social and economic environments while reducing the burden on the administrative environment. Results from the red snapper update assessment in 2009 and the recent update indicate that the red snapper stock is no longer undergoing overfishing and that annual catch limits can be increased. Management measures considered in this amendment adjust the red snapper annual catch limit for 2012 and for 2013. Increases in 2013 would be contingent on the annual catch limit in 2012 not being exceeded.

Timetable:

Action | Date | FR Cite
NPRM | 04/12/12 | 77 FR 21955
NPRM Comment Period End | 04/27/12 |
Final Action | 05/30/12 | 77 FR 31734
Final Action Effective | 06/29/12 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BB91

241. Atlantic Highly Migratory Species; Silky Shark Management Measures

Legal Authority: 16 U.S.C. 1801 et seq.; 16 U.S.C. 971 et seq.

Abstract: This action implements Recommendation 11-08, which was adopted at the 2011 annual meeting of the International Commission for the Conservation of Atlantic Tunas (ICCAT), consistent with both the Magnuson-Stevens Conservation and Management Act and the Atlantic Tunas Convention Act. Recommendation 11-08 prohibits the retention, transshipping, or landing of silky sharks (Carcharhinus falciformis) caught in association with ICCAT fisheries.

Timetable:

Action | Date | FR Cite
NPRM | 06/22/12 | 77 FR 37647
NPRM Comment Period End | 07/23/12 |
Final Action | 10/04/12 | 77 FR 60632
Final Action Effective | 11/05/12 |

Regulatory Flexibility Analysis Required: Yes.

Agency Contact: Margo Schulze-Haugen, Supervisory Fish Management Officer, Department of Commerce, National Oceanic and Atmospheric Administration, 1315 East-West Highway, Silver Spring, MD 20910, Phone: 301 713-0234, Fax: 301 713-1917, Email: margo.schulze-haugen@noaa.gov.

RIN: 0648-BB96

242. 2012 Summer Flounder, Scup, and Black Sea Bass Recreational Harvest Measures

Legal Authority: 16 U.S.C. 1801 et seq.

Abstract: This rulemaking implements management measures to achieve recreational harvest limits for the 2012 summer flounder, scup, and black sea bass recreational fisheries. Recreational management measures include recreational possession limits, minimum fish sizes, and seasonal closures.

Timetable:

Action | Date | FR Cite
NPRM | 04/30/12 | 77 FR 25394
Final Action | 05/23/12 | 77 FR 30427

Regulatory Flexibility Analysis Required: Yes.

Agency Contact: Daniel Morris, Acting Northeast Regional Administrator, Department of Commerce, National Oceanic and Atmospheric Administration, 55 Great Republic Drive, Gloucester, MA 01930, Phone: 978 281-9311, Email: daniel.morris@noaa.gov.

RIN: 0648-BC07

243. • Temporary Rule Through Emergency Action To Allow Harvest of Red Snapper in the South Atlantic Region in 2012

Legal Authority: 16 U.S.C. 1801

Abstract: In a letter dated June 19, 2012, the Council requested NOAA Fisheries Service to allow harvest and possession of red snapper in 2012 through emergency regulations. At their June 11-15, 2012, meeting, the Council reviewed new information in the form of red snapper rebuilding projections, 2012 acceptable biological catch levels, and 2012 discard mortality levels. After accounting for the 2012 discard mortalities, the Council determined that directed harvest could be allowed without compromising the rebuilding of the stock to target levels. The Council decided to send the request for emergency regulation by a 12 to 1 vote. As outlined in the letter, the Councils request is centered around the following items: (1) Red snapper annual catch limit (ACL) of 13,067 fish; (2) recreational ACL of 9,399 fish; (3) commercial ACL of 3,668 fish or 20,818 pounds gutted weight; (4) for the recreational sector, three-day weekend openings of which the number of weekends would be determined by the agency and the opening dates would be subject to modification based on weather conditions; (5) for the commercial sector, seven-day mini-season increments subject to the remaining quota; (6) open the seasons as soon as possible; (7) recreational bag limit of one fish per person per day with no size limit; and (8) commercial 50-pound trip limit with no size limit.

Timetable:

Action | Date | FR Cite
Final Action | 08/28/12 | 77 FR 51939

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BC32

244. Revisions to the Turtle Excluder Device Requirements

Legal Authority: 16 U.S.C. 1533

Abstract: With this action, the National Marine Fisheries Service (NMFS) announces that it is considering technical changes to the requirements for turtle excluder devices (TEDs), and to solicit public comment. Specifically, NMFS would modify the size of the TED escape opening currently required in the summer flounder fishery; require the use of TEDs in the whelk, calico scallop, and Mid-Atlantic scallop trawl fisheries; require the use of TEDs in flynets; and move the current northern boundary of the Summer Flounder Fishery-Sea Turtle Protection Area off Cape Charles, Virginia, to a point farther north.

Timetable:

Action | Date | FR Cite
ANPRM | 02/15/07 | 72 FR 7382
ANPRM Comment Period End | 03/19/07 |
Final Action—ANPRM Comment Period Extended | 03/19/07 | 72 FR 12749

Regulatory Flexibility Analysis Required: Yes.

Agency Contact: Helen Golde, Department of Commerce, National Oceanic and Atmospheric Administration, Marine Sanctuaries Division, 1305 East-West Highway, Silver Spring, MD 20910, Phone: 301 427-8400, Email: helen.golde@noaa.gov.

RIN: 0648-AV04

245. Amendment to Regulations Under the Bottlenose Dolphin Take Reduction Plan

Legal Authority: 16 U.S.C. 1361 et seq.

Abstract: Serious injury and mortality of the Western North Atlantic bottlenose dolphin stocks incidental to Category I and II fisheries continue at levels potentially exceeding Potential Biological Removal (PBR) levels, requiring additional management measures under the Bottlenose Dolphin Take Reduction Plan (BDTRP). Therefore, the this action amends the BDTRP to reduce serious injury and mortality of bottlenose dolphins in the Virginia pound net fishery (Category II) and mid-Atlantic gillnet fishery (Category I) in North Carolina, specifically, the spiny dogfish fishery. The need for this action is to ensure the BDTRP meets its MMPA mandated short and long-term goals. NMFS will examine a number of management measures, including consensus recommendations from the Bottlenose Dolphin Take Reduction Team, designed to reduce the incidental mortality or serious injury of bottlenose dolphins taken in both the Virginia pound net fishery and spiny dogfish fishery in North Carolina to below PBR, as well as other updates supporting the objectives of the BDTRP.

Timetable:

Action | Date | FR Cite
NPRM | 04/12/12 | 77 FR 21946
NPRM Comment Period End | 05/14/12 |
Final Action | 07/31/12 | 77 FR 45268
Final Action Effective | 08/30/12 |

Regulatory Flexibility Analysis Required: Yes.

Agency Contact: Kristy Long, Fisheries Biologist, Department of Commerce, National Oceanic and Atmospheric Administration, Room 13738, 1315 East-West Highway, Silver Spring, MD 20910, Phone: 301 713-2322, Fax: 301 427-2522, Email: kristy.long@noaa.gov.

RIN: 0648-BA34

DEPARTMENT OF COMMERCE (DOC)

Patent and Trademark Office (PTO)

Final Rule Stage

246. Setting and Adjusting Patent Fees

Legal Authority: 35 U.S.C. 119; 35 U.S.C. 120; 35 U.S.C. 132(b); 35 U.S.C. 376; 35 U.S.C. 41; Pub. L. 109-383; Pub. L. 110-116; Pub. L. 110-137; Pub. L. 110-149; Pub. L. 110-161; Pub. L. 110-5; Pub. L. 110-92; Pub. L. 112-29

Abstract: The United States Patent and Trademark Office (Office) takes this action in accordance with the Leahy-Smith American Invents Act to set and adjust certain patent fee amounts to provide the Office with a sufficient amount of aggregate revenue to recover its aggregate cost of patent operations. This action also helps the Office implement a sustainable funding model, reduce the current patent application backlog, decrease patent pendency, improve patent quality, and upgrade the Office's patent business information technology capability and infrastructure.

Timetable:

Action | Date | FR Cite
NPRM | 09/06/12 | 77 FR 55028
NPRM Comment Period End | 11/05/12 |
Final Rule | 02/00/13 |

Regulatory Flexibility Analysis Required: Yes.

Agency Contact: Gilda Lee, Economist, Department of Commerce, Patent and Trademark Office, 600 Dulany Street, P.O. Box 1450, Alexandria, VA 22313-1450, Phone: 571 272-8698, Email: gilda.lee@uspto.gov.

RIN: 0651-AC54

DEPARTMENT OF COMMERCE (DOC)

Patent and Trademark Office (PTO)

Completed Actions

247. Changes To Implement the Supplemental Examination Provisions of the Leahy-Smith America Invents Act and To Revise Reexamination Fees

Legal Authority: 125 Stat 283; 125 Stat 319; 35 U.S.C. 2(b)(2); Pub. L. 112-29

Abstract: The United States Patent and Trademark Office (Office) is amending the rules of practice in patent cases to implement the supplemental examination provisions of the Leahy-Smith America Invents Act (AIA). The supplemental examination provisions permit a patent owner to request supplemental examination of a patent by the Office to consider, reconsider, or correct information believed to be relevant to the patent. The Office is also adjusting the fee for filing a request for ex parte reexamination and setting a fee for petitions filed in reexamination proceedings to more accurately reflect the cost of these processes.

Timetable:

Action | Date | FR Cite
NPRM | 01/25/12 | 77 FR 3666
NPRM Comment Period End | 03/26/12 |
Final Rule | 08/14/12 | 77 FR 48828
Final Rule Effective | 09/16/12 |

Regulatory Flexibility Analysis Required: Yes.

Agency Contact: Raul Tamayo, Department of Commerce, Patent and Trademark Office, 600 Dulaney Street, P.O. Box 1450, Alexandria, VA 22313, Phone: 571 272-7728, Email: raul.tamayo@uspto.gov.

RIN: 0651-AC69

248. Rules of Practice for Trials Before the Patent Trial and Appeal Board and Judicial Review of Patent Trial and Appeal Board Decisions

Legal Authority: 125 Stat 284; 125 Stat 289; 125 Stat 290; 125 Stat 299-313; 125 Stat 329-331 (2011); 35 U.S.C. 135; 35 U.S.C. 2(b)(2); 35 U.S.C. 21; 35 U.S.C. 23; 35 U.S.C. 311-319; 35 U.S.C. 321-329; 35 U.S.C. 41; 35 U.S.C. 6; Pub. L. 112-29

Abstract: The United States Patent and Trademark Office (Office) amends the rules of practice to add new parts 42 and 90 to implement the inter partes, post grant, and covered business method review of patents and derivation provisions of the Leahy-Smith America Invents Act (LSAIA). The review provisions permit a third party to request review of a patent by the Office. The derivation provisions permit a patent applicant to file a petition seeking to institute a derivation proceeding with another party's application or patent.

Timetable:

Action | Date | FR Cite
NPRM | 02/09/12 | 77 FR 6879
NPRM Comment Period End | 04/09/12 |
Final Rule | 08/14/12 | 77 FR 48612
Final Rule Effective | 09/16/12 |

Regulatory Flexibility Analysis Required: Yes.

Agency Contact: Michael Tierney, Lead Administrative Patent Judge, Department of Commerce, Patent and Trademark Office, 600 Dulany Street, P.O. Box 1450, Alexandria, VA 22313-1450, Phone: 571 272-9797, Fax: 571 273-0053, Email: michael.tierney@uspto.gov.

RIN: 0651-AC70

249. Changes To Implement Inter Partes Review Proceedings

Legal Authority: 125 Stat 284; 125 Stat 299-313; 125 Stat 329-331; 31 U.S.C. 311-319; 35 U.S.C. 2(b)(2); 35 U.S.C. 21; 35 U.S.C. 23; 35 U.S.C. 329-331; 35 U.S.C. 41; 35 U.S.C. 6; Pub. L. 112-29 sections 6, 18

Abstract: The United States Patent and Trademark Office (Office or USPTO) is revising the rules of practice to implement the provisions of the Leahy-Smith America Invents Act (AIA) that create the new inter partes review proceeding, post-grant review proceeding, and transitional post-grant review proceeding for covered business method patents, to be conducted before the Patent Trial and Appeal Board (Board). These provisions of the AIA will take effect on September 16, 2012, one year after the date of enactment.

Timetable:

Action | Date | FR Cite
NPRM | 02/10/12 | 77 FR 7041
NPRM Comment Period End | 04/10/12 |
Final Rule | 08/14/12 | 77 FR 48680
Final Rule Effective | 09/16/12 |

Regulatory Flexibility Analysis Required: Yes.

Agency Contact: Michael Tierney, Lead Administrative Patent Judge, Department of Commerce, Patent and Trademark Office, 600 Dulany Street, P.O. Box 1450, Alexandria, VA 22313-1450, Phone: 571 272-9797, Fax: 571 273-0053, Email: michael.tierney@uspto.gov.

RIN: 0651-AC71

250. Changes To Implement Derivation Proceedings

Legal Authority: 125 Stat 284; 125 Stat 289-90 (2011); 35 U.S.C. 135; 35 U.S.C. 2(b)(2); 35 U.S.C. 21; 35 U.S.C. 23; 35 U.S.C. 41; 35 U.S.C. 6; Pub. L. 112-29, sec 3(i)

Abstract: The United States Patent and Trademark Office (Office) amends the rules of practice to implement the derivation provisions of the Leahy-Smith America Invents Act (LSAIA). The derivation provisions permit a patent applicant to file a petition seeking to institute a derivation proceeding with another party's application or patent.

Timetable:

Action | Date | FR Cite
NPRM | 02/10/12 | 77 FR 7028
NPRM Comment Period End | 04/10/12 |
Final Rule | 09/11/12 | 77 FR 56068
Final Rule Effective | 03/16/13 |

Regulatory Flexibility Analysis Required: Yes.

Agency Contact: Michael Tierney, Lead Administrative Patent Judge, Department of Commerce, Patent and Trademark Office, 600 Dulany Street, P.O. Box 1450, Alexandria, VA 22313-1450, Phone: 571 272-9797, Fax: 571 273-0053, Email: michael.tierney@uspto.gov.

RIN: 0651-AC74

251. Transitional Program for Covered Business Method Patents—Definition for Technological Invention

Legal Authority: 125 Stat 284; 125 Stat 329-331 (2011); 35 U.S.C. 2(b)(2); 35 U.S.C. 21; 35 U.S.C. 23; 35 U.S.C. 321-329; 35 U.S.C. 41; 35 U.S.C. 6; Pub. L. 112-29

Abstract: The United States Patent and Trademark Office (Office) implements the provision of the Leahy-Smith America Invents Act that requires the Office to issue regulations for determining whether a patent is for a technological invention in a transitional post-grant review proceeding for covered business method patents.

Timetable:

Action | Date | FR Cite
NPRM | 02/10/12 | 77 FR 7095
NPRM Comment Period End | 04/10/12 |
Final Rule | 08/14/12 | 77 FR 48734
Final Rule Effective | 09/16/12 |

Regulatory Flexibility Analysis Required: Yes.

Agency Contact: Michael Tierney, Lead Administrative Patent Judge, Department of Commerce, Patent and Trademark Office, 600 Dulany Street, P.O. Box 1450, Alexandria, VA 22313-1450, Phone: 571 272-9797, Fax: 571 273-0053, Email: michael.tierney@uspto.gov.

RIN: 0651-AC75

[FR Doc. 2012-31489 Filed 1-7-13; 8:45 am]

BILLING CODE 3510-12-P